DEPARTMENT OF AGRICULTURE

Agricultural Marketing Service

7 CFR Part 1205

[Doc. No. AMS-CN-22-0003]

Cotton Board Rules and Regulations: Adjusting Supplemental Assessment on Imports (2022 Amendments)

AGENCY: Agricultural Marketing Service, USDA.

ACTION: Direct final rule.

SUMMARY: The Agricultural Marketing Service (AMS) is amending the Cotton Board Rules and Regulations, increasing the value assigned to imported cotton for the purposes of calculating supplemental assessments collected for use by the Cotton Research and Promotion Program. This amendment is required each year to ensure that assessments collected on imported cotton and the cotton content of imported products will be the same as those paid on domestically produced cotton. In addition, AMS is updating the Harmonized Tariff Schedule (HTS) statistical reporting numbers that were amended since the last assessment adjustment in 2021.

DATES: This direct rule is effective November 28, 2022, without further action or notice, unless significant adverse comment is received by October 28, 2022. If significant adverse comment is received, AMS will publish a timely withdrawal of the amendment in the Federal Register.

ADDRESSES: Interested persons are invited to submit written comments concerning this direct final rule. Comments may be submitted by mail or hand delivery to Cotton Research and Promotion, Cotton and Tobacco Program, AMS, USDA, 100 Riverside Parkway, Suite 101, Fredericksburg, Virginia 22406 or via the internet at: https://www.regulations.gov. All comments should reference the document number and the date and page number of this issue of the Federal Register. All comments submitted in response to this direct final rule will be included in the record and will be made available to the public and can be viewed at: https://www.regulations.gov. Please be advised that the identity of the individuals or entities submitting the comments will be made public on the internet at the address provided above.

FOR FURTHER INFORMATION CONTACT: Shethir M. Riva, Director, Research and Promotion, Cotton and Tobacco Program, AMS, USDA, 100 Riverside Parkway, Suite 101, Fredericksburg, Virginia 22406, telephone (540) 361-2726, facsimile (540) 361-1199, or email at CottonRP@usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorized changes in the funding procedures for the Cotton Research and Promotion Program. These provisions provided for: (1) the assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Board Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2021 in the Federal Register (86 FR 47541) for the purpose of calculating assessments on imported cotton is $0.011136 per kilogram. Using the average weighted price received by U.S. farmers for Upland cotton for the calendar year 2021, this direct final rule would amend the new value of imported cotton to $0.013215 per kilogram to reflect the price received by U.S. farmers for Upland cotton during 2021.

An example of the complete assessment formula and how the figures are obtained is as follows: ¹

¹ Results are rounded for ease of presentation. Totals may not sum due to rounding.

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or 0.2000 cents per pound (1/500) or $0.004409 per kg or 0.4409 cents per kg. (1/226.8).

Supplemental Assessment of 5/10 of One Percent of the Value of the Cotton Converted to Kilograms

The 2021 calendar year weighted average price received by producers for Upland cotton is $0.799 per pound or $1.761 per kg. (0.799 × 2.2046).

Five tenths of one percent of the average price equals $0.008806 per kg. (1.761 × 0.005).

Total Assessment

The total assessment per kilogram of raw cotton is obtained by adding the $1 per bale equivalent assessment of $0.004409 per kg. and the supplemental assessment $0.008806 per kg., which equals $0.013215 per kg.

The current assessment on imported cotton is $0.011136 per kilogram of imported cotton. The revised assessment in this direct final rule is $0.013215, an increase of $0.002079 per kilogram. This reflects the increase in the average weighted price of Upland cotton received by U.S. farmers during the period January through December 2021.

The Import Assessment Table in section 1205.510(b)(3) of the Order indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS does receives significant adverse comments during the comment period, it will publish, in a timely manner, a document in the Federal Register withdrawing this direct final rule. AMS will then address public comments in a subsequent proposed rule and final rule based on the proposed rule.

B. Rulemaking Analyses

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. This action falls within a category of regulatory actions that the Office of Management and Budget (OMB) exempted from Executive Order 12866 review. Additionally, because this rule does not meet the definition of a significant regulatory action it does not trigger the requirements contained in Executive Order 13771. See OMB's Memorandum titled “Interim Guidance Implementing Section 2 of the Executive Order of January 30, 2017 titled `Reducing Regulation and Controlling Regulatory Costs' ” (February 2, 2017).

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR 121.201, a small cotton farming business as those having annual receipts of no more than $2,750,000 and small “Other Farm Product Raw Material Merchant Wholesalers” (cotton merchants/importers) as having no more than 100 employees. The Cotton Board estimates approximately 40,000 importers are subject to the rules and regulations issued pursuant to the Cotton Research and Promotion Order. According to the United States Census Bureau's “2019 Survey of SUSB Annual Data Tables by Establishment Industry,” most importers are considered small entities as defined by the Small Business Administration (13 CFR 121.201). This rule would only affect importers of cotton and cotton-containing products and would increase the assessments paid by the importers under the Cotton Research and Promotion Order. The current assessment on imported cotton is $0.011136 per kilogram of imported cotton. The amended assessment would be $0.013215, which was calculated based on the 12-month weighted average of price received by U.S. cotton farmers in 2021. Section 1205.510 of the Order, “Levy of assessments”, provides “The rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2021, producer assessments totaled $40.1 million and importer assessments totaled $44.2 million. According to the Cotton Board, should the volume of cotton products imported into the U.S. remain at the same level in 2022, one could expect an increase of assessments by approximately $8,268,674.

Imported organic cotton and products may be exempt from assessment if eligible under section 1205.519 of the Order.

There are no Federal rules that duplicate, overlap, or conflict with this rule. In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because an amendment is required to adjust the assessments collected on imported cotton and the cotton content of imported products to be the same as those paid on domestically produced cotton.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118; 7 U.S.C. 7401.

2. In § 1205.510, paragraph (b)(2) and the table in paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.3215 cents per kilogram.

(3) * * *

Import Assessment Table
[Raw cotton fiber]
HTS No. | Conv. factor. | Cents/kg.
5007106010 | 0.2713 | 0.3585230
5007106020 | 0.2713 | 0.3585230
5007906010 | 0.2713 | 0.3585230
5007906020 | 0.2713 | 0.3585230
5112904000 | 0.1085 | 0.1433828
5112905000 | 0.1085 | 0.1433828
5112909010 | 0.1085 | 0.1433828
5112909090 | 0.1085 | 0.1433828
5201000500 | 1 | 1.3215000
5201001200 | 1 | 1.3215000
5201001400 | 1 | 1.3215000
5201001800 | 1 | 1.3215000
5201002200 | 1 | 1.3215000
5201002400 | 1 | 1.3215000
5201002800 | 1 | 1.3215000
5201003400 | 1 | 1.3215000
5201003800 | 1 | 1.3215000
5204110000 | 1.0526 | 1.3910109
5204190000 | 0.6316 | 0.8346594
5204200000 | 1.0526 | 1.3910109
5205111000 | 1 | 1.3215000
5205112000 | 1 | 1.3215000
5205121000 | 1 | 1.3215000
5205122000 | 1 | 1.3215000
5205131000 | 1 | 1.3215000
5205132000 | 1 | 1.3215000
5205141000 | 1 | 1.3215000
5205142000 | 1 | 1.3215000
5205151000 | 1 | 1.3215000
5205152000 | 1 | 1.3215000
5205210020 | 1.044 | 1.3796460
5205210090 | 1.044 | 1.3796460
5205220020 | 1.044 | 1.3796460
5205220090 | 1.044 | 1.3796460
5205230020 | 1.044 | 1.3796460
5205230090 | 1.044 | 1.3796460
5205240020 | 1.044 | 1.3796460
5205240090 | 1.044 | 1.3796460
5205260020 | 1.044 | 1.3796460
5205260090 | 1.044 | 1.3796460
5205270020 | 1.044 | 1.3796460
5205270090 | 1.044 | 1.3796460
5205280020 | 1.044 | 1.3796460
5205280090 | 1.044 | 1.3796460
5205310000 | 1 | 1.3215000
5205320000 | 1 | 1.3215000
5205330000 | 1 | 1.3215000
5205340000 | 1 | 1.3215000
5205350000 | 1 | 1.3215000
5205410020 | 1.044 | 1.3796460
5205410090 | 1.044 | 1.3796460
5205420021 | 1.044 | 1.3796460
5205420029 | 1.044 | 1.3796460
5205420090 | 1.044 | 1.3796460
5205430021 | 1.044 | 1.3796460
5205430029 | 1.044 | 1.3796460
5205430090 | 1.044 | 1.3796460
5205440021 | 1.044 | 1.3796460
5205440029 | 1.044 | 1.3796460
5205440090 | 1.044 | 1.3796460
5205460021 | 1.044 | 1.3796460
5205460029 | 1.044 | 1.3796460
5205460090 | 1.044 | 1.3796460
5205470021 | 1.044 | 1.3796460
5205470029 | 1.044 | 1.3796460
5205470090 | 1.044 | 1.3796460
5205480020 | 1.044 | 1.3796460
5205480090 | 1.044 | 1.3796460
5206110000 | 0.7368 | 0.9736812
5206120000 | 0.7368 | 0.9736812
5206130000 | 0.7368 | 0.9736812
5206140000 | 0.7368 | 0.9736812
5206150000 | 0.7368 | 0.9736812
5206210000 | 0.7692 | 1.0164978
5206220000 | 0.7692 | 1.0164978
5206230000 | 0.7692 | 1.0164978
5206240000 | 0.7692 | 1.0164978
5206250000 | 0.7692 | 1.0164978
5206310000 | 0.7368 | 0.9736812
5206320000 | 0.7368 | 0.9736812
5206330000 | 0.7368 | 0.9736812
5206340000 | 0.7368 | 0.9736812
5206350000 | 0.7368 | 0.9736812
5206410000 | 0.7692 | 1.0164978
5206420000 | 0.7692 | 1.0164978
5206430000 | 0.7692 | 1.0164978
5206440000 | 0.7692 | 1.0164978
5206450000 | 0.7692 | 1.0164978
5207100000 | 0.9474 | 1.2519891
5207900000 | 0.6316 | 0.8346594
5208112020 | 1.0852 | 1.4340918
5208112040 | 1.0852 | 1.4340918
5208112090 | 1.0852 | 1.4340918
5208114020 | 1.0852 | 1.4340918
5208114040 | 1.0852 | 1.4340918
5208114060 | 1.0852 | 1.4340918
5208114090 | 1.0852 | 1.4340918
5208116000 | 1.0852 | 1.4340918
5208118020 | 1.0852 | 1.4340918
5208118090 | 1.0852 | 1.4340918
5208124020 | 1.0852 | 1.4340918
5208124040 | 1.0852 | 1.4340918
5208124090 | 1.0852 | 1.4340918
5208126020 | 1.0852 | 1.4340918
5208126040 | 1.0852 | 1.4340918
5208126060 | 1.0852 | 1.4340918
5208126090 | 1.0852 | 1.4340918
5208128020 | 1.0852 | 1.4340918
5208128090 | 1.0852 | 1.4340918
5208130000 | 1.0852 | 1.4340918
5208192020 | 1.0852 | 1.4340918
5208192090 | 1.0852 | 1.4340918
5208194020 | 1.0852 | 1.4340918
5208194090 | 1.0852 | 1.4340918
5208196020 | 1.0852 | 1.4340918
5208196090 | 1.0852 | 1.4340918
5208198020 | 1.0852 | 1.4340918
5208198090 | 1.0852 | 1.4340918
5208212020 | 1.0852 | 1.4340918
5208212040 | 1.0852 | 1.4340918
5208212090 | 1.0852 | 1.4340918
5208214020 | 1.0852 | 1.4340918
5208214040 | 1.0852 | 1.4340918
5208214060 | 1.0852 | 1.4340918
5208214090 | 1.0852 | 1.4340918
5208216020 | 1.0852 | 1.4340918
5208216090 | 1.0852 | 1.4340918
5208224020 | 1.0852 | 1.4340918
5208224040 | 1.0852 | 1.4340918
5208224090 | 1.0852 | 1.4340918
5208226020 | 1.0852 | 1.4340918
5208226040 | 1.0852 | 1.4340918
5208226060 | 1.0852 | 1.4340918
5208226090 | 1.0852 | 1.4340918
5208228020 | 1.0852 | 1.4340918
5208228090 | 1.0852 | 1.4340918
5208230000 | 1.0852 | 1.4340918
5208292020 | 1.0852 | 1.4340918
5208292090 | 1.0852 | 1.4340918
5208294020 | 1.0852 | 1.4340918
5208294090 | 1.0852 | 1.4340918
5208296020 | 1.0852 | 1.4340918
5208296090 | 1.0852 | 1.4340918
5208298020 | 1.0852 | 1.4340918
5208298090 | 1.0852 | 1.4340918
5208312000 | 1.0852 | 1.4340918
5208314020 | 1.0852 | 1.4340918
5208314040 | 1.0852 | 1.4340918
5208314090 | 1.0852 | 1.4340918
5208316020 | 1.0852 | 1.4340918
5208316040 | 1.0852 | 1.4340918
5208316060 | 1.0852 | 1.4340918
5208316090 | 1.0852 | 1.4340918
5208318020 | 1.0852 | 1.4340918
5208318090 | 1.0852 | 1.4340918
5208321000 | 1.0852 | 1.4340918
5208323020 | 1.0852 | 1.4340918
5208323040 | 1.0852 | 1.4340918
5208323090 | 1.0852 | 1.4340918
5208324020 | 1.0852 | 1.4340918
5208324040 | 1.0852 | 1.4340918
5208324060 | 1.0852 | 1.4340918
5208324090 | 1.0852 | 1.4340918
5208325020 | 1.0852 | 1.4340918
5208325090 | 1.0852 | 1.4340918
5208330000 | 1.0852 | 1.4340918
5208392020 | 1.0852 | 1.4340918
5208392090 | 1.0852 | 1.4340918
5208394020 | 1.0852 | 1.4340918
5208394090 | 1.0852 | 1.4340918
5208396020 | 1.0852 | 1.4340918
5208396090 | 1.0852 | 1.4340918
5208398020 | 1.0852 | 1.4340918
5208398090 | 1.0852 | 1.4340918
5208412000 | 1.0852 | 1.4340918
5208414000 | 1.0852 | 1.4340918
5208416000 | 1.0852 | 1.4340918
5208418000 | 1.0852 | 1.4340918
5208421000 | 1.0852 | 1.4340918
5208423000 | 1.0852 | 1.4340918
5208424000 | 1.0852 | 1.4340918
5208425000 | 1.0852 | 1.4340918
5208430000 | 1.0852 | 1.4340918
5208492000 | 1.0852 | 1.4340918
5208494010 | 1.0852 | 1.4340918
5208494020 | 1.0852 | 1.4340918
5208494090 | 1.0852 | 1.4340918
5208496010 | 1.0852 | 1.4340918
5208496020 | 1.0852 | 1.4340918
5208496030 | 1.0852 | 1.4340918
5208496090 | 1.0852 | 1.4340918
5208498020 | 1.0852 | 1.4340918
5208498090 | 1.0852 | 1.4340918
5208512000 | 1.0852 | 1.4340918
5208514020 | 1.0852 | 1.4340918
5208514040 | 1.0852 | 1.4340918
5208514090 | 1.0852 | 1.4340918
5208516020 | 1.0852 | 1.4340918
5208516040 | 1.0852 | 1.4340918
5208516060 | 1.0852 | 1.4340918
5208516090 | 1.0852 | 1.4340918
5208518020 | 1.0852 | 1.4340918
5208518090 | 1.0852 | 1.4340918
5208521000 | 1.0852 | 1.4340918
5208523020 | 1.0852 | 1.4340918
5208523035 | 1.0852 | 1.4340918
5208523045 | 1.0852 | 1.4340918
5208523090 | 1.0852 | 1.4340918
5208524020 | 1.0852 | 1.4340918
5208524035 | 1.0852 | 1.4340918
5208524045 | 1.0852 | 1.4340918
5208524055 | 1.0852 | 1.4340918
5208524065 | 1.0852 | 1.4340918
5208524090 | 1.0852 | 1.4340918
5208525020 | 1.0852 | 1.4340918
5208525090 | 1.0852 | 1.4340918
5208591000 | 1.0852 | 1.4340918
5208592015 | 1.0852 | 1.4340918
5208592025 | 1.0852 | 1.4340918
5208592085 | 1.0852 | 1.4340918
5208592095 | 1.0852 | 1.4340918
5208594020 | 1.0852 | 1.4340918
5208594090 | 1.0852 | 1.4340918
5208596020 | 1.0852 | 1.4340918
5208596090 | 1.0852 | 1.4340918
5208598020 | 1.0852 | 1.4340918
5208598090 | 1.0852 | 1.4340918
5209110020 | 1.0309 | 1.3623344
5209110025 | 1.0309 | 1.3623344
5209110035 | 1.0309 | 1.3623344
5209110050 | 1.0309 | 1.3623344
5209110090 | 1.0309 | 1.3623344
5209120020 | 1.0309 | 1.3623344
5209120040 | 1.0309 | 1.3623344
5209190020 | 1.0309 | 1.3623344
5209190040 | 1.0309 | 1.3623344
5209190060 | 1.0309 | 1.3623344
5209190090 | 1.0309 | 1.3623344
5209210020 | 1.0309 | 1.3623344
5209210025 | 1.0309 | 1.3623344
5209210035 | 1.0309 | 1.3623344
5209210050 | 1.0309 | 1.3623344
5209210090 | 1.0309 | 1.3623344
5209220020 | 1.0309 | 1.3623344
5209220040 | 1.0309 | 1.3623344
5209290020 | 1.0309 | 1.3623344
5209290040 | 1.0309 | 1.3623344
5209290060 | 1.0309 | 1.3623344
5209290090 | 1.0309 | 1.3623344
5209313000 | 1.0309 | 1.3623344
5209316020 | 1.0309 | 1.3623344
5209316025 | 1.0309 | 1.3623344
5209316035 | 1.0309 | 1.3623344
5209316050 | 1.0309 | 1.3623344
5209316090 | 1.0309 | 1.3623344
5209320020 | 1.0309 | 1.3623344
5209320040 | 1.0309 | 1.3623344
5209390020 | 1.0309 | 1.3623344
5209390040 | 1.0309 | 1.3623344
5209390060 | 1.0309 | 1.3623344
5209390080 | 1.0309 | 1.3623344
5209390090 | 1.0309 | 1.3623344
5209413000 | 1.0309 | 1.3623344
5209416020 | 1.0309 | 1.3623344
5209416040 | 1.0309 | 1.3623344
5209420020 | 0.9767 | 1.2907091
5209420040 | 0.9767 | 1.2907091
5209420060 | 0.9767 | 1.2907091
5209420080 | 0.9767 | 1.2907091
5209430030 | 1.0309 | 1.3623344
5209430050 | 1.0309 | 1.3623344
5209490020 | 1.0309 | 1.3623344
5209490040 | 1.0309 | 1.3623344
5209490090 | 1.0309 | 1.3623344
5209513000 | 1.0309 | 1.3623344
5209516015 | 1.0852 | 1.4340918
5209516025 | 1.0852 | 1.4340918
5209516032 | 1.0852 | 1.4340918
5209516035 | 1.0852 | 1.4340918
5209516050 | 1.0852 | 1.4340918
5209516090 | 1.0852 | 1.4340918
5209520020 | 1.0852 | 1.4340918
5209520040 | 1.0852 | 1.4340918
5209590015 | 1.0852 | 1.4340918
5209590025 | 1.0852 | 1.4340918
5209590040 | 1.0852 | 1.4340918
5209590060 | 1.0852 | 1.4340918
5209590090 | 1.0852 | 1.4340918
5210114020 | 0.6511 | 0.8604287
5210114040 | 0.6511 | 0.8604287
5210114090 | 0.6511 | 0.8604287
5210116020 | 0.6511 | 0.8604287
5210116040 | 0.6511 | 0.8604287
5210116060 | 0.6511 | 0.8604287
5210116090 | 0.6511 | 0.8604287
5210118020 | 0.6511 | 0.8604287
5210118090 | 0.6511 | 0.8604287
5210191000 | 0.6511 | 0.8604287
5210192020 | 0.6511 | 0.8604287
5210192090 | 0.6511 | 0.8604287
5210194020 | 0.6511 | 0.8604287
5210194090 | 0.6511 | 0.8604287
5210196020 | 0.6511 | 0.8604287
5210196090 | 0.6511 | 0.8604287
5210198020 | 0.6511 | 0.8604287
5210198090 | 0.6511 | 0.8604287
5210214020 | 0.6511 | 0.8604287
5210214040 | 0.6511 | 0.8604287
5210214090 | 0.6511 | 0.8604287
5210216020 | 0.6511 | 0.8604287
5210216040 | 0.6511 | 0.8604287
5210216060 | 0.6511 | 0.8604287
5210216090 | 0.6511 | 0.8604287
5210218020 | 0.6511 | 0.8604287
5210218090 | 0.6511 | 0.8604287
5210291000 | 0.6511 | 0.8604287
5210292020 | 0.6511 | 0.8604287
5210292090 | 0.6511 | 0.8604287
5210294020 | 0.6511 | 0.8604287
5210294090 | 0.6511 | 0.8604287
5210296020 | 0.6511 | 0.8604287
5210296090 | 0.6511 | 0.8604287
5210298020 | 0.6511 | 0.8604287
5210298090 | 0.6511 | 0.8604287
5210314020 | 0.6511 | 0.8604287
5210314040 | 0.6511 | 0.8604287
5210314090 | 0.6511 | 0.8604287
5210316020 | 0.6511 | 0.8604287
5210316040 | 0.6511 | 0.8604287
5210316060 | 0.6511 | 0.8604287
5210316090 | 0.6511 | 0.8604287
5210318020 | 0.6511 | 0.8604287
5210318090 | 0.6511 | 0.8604287
5210320000 | 0.6511 | 0.8604287
5210392020 | 0.6511 | 0.8604287
5210392090 | 0.6511 | 0.8604287
5210394020 | 0.6511 | 0.8604287
5210394090 | 0.6511 | 0.8604287
5210396020 | 0.6511 | 0.8604287
5210396090 | 0.6511 | 0.8604287
5210398020 | 0.6511 | 0.8604287
5210398090 | 0.6511 | 0.8604287
5210414000 | 0.6511 | 0.8604287
5210416000 | 0.6511 | 0.8604287
5210418000 | 0.6511 | 0.8604287
5210491000 | 0.6511 | 0.8604287
5210492000 | 0.6511 | 0.8604287
5210494010 | 0.6511 | 0.8604287
5210494020 | 0.6511 | 0.8604287
5210494090 | 0.6511 | 0.8604287
5210496010 | 0.6511 | 0.8604287
5210496020 | 0.6511 | 0.8604287
5210496090 | 0.6511 | 0.8604287
5210498020 | 0.6511 | 0.8604287
5210498090 | 0.6511 | 0.8604287
5210514020 | 0.6511 | 0.8604287
5210514040 | 0.6511 | 0.8604287
5210514090 | 0.6511 | 0.8604287
5210516020 | 0.6511 | 0.8604287
5210516040 | 0.6511 | 0.8604287
5210516060 | 0.6511 | 0.8604287
5210516090 | 0.6511 | 0.8604287
5210518020 | 0.6511 | 0.8604287
5210518090 | 0.6511 | 0.8604287
5210591000 | 0.6511 | 0.8604287
5210592020 | 0.6511 | 0.8604287
5210592090 | 0.6511 | 0.8604287
5210594020 | 0.6511 | 0.8604287
5210594090 | 0.6511 | 0.8604287
5210596020 | 0.6511 | 0.8604287
5210596090 | 0.6511 | 0.8604287
5210598020 | 0.6511 | 0.8604287
5210598090 | 0.6511 | 0.8604287
5211110020 | 0.6511 | 0.8604287
5211110025 | 0.6511 | 0.8604287
5211110035 | 0.6511 | 0.8604287
5211110050 | 0.6511 | 0.8604287
5211110090 | 0.6511 | 0.8604287
5211120020 | 0.6511 | 0.8604287
5211120040 | 0.6511 | 0.8604287
5211190020 | 0.6511 | 0.8604287
5211190040 | 0.6511 | 0.8604287
5211190060 | 0.6511 | 0.8604287
5211190090 | 0.6511 | 0.8604287
5211202120 | 0.6511 | 0.8604287
5211202125 | 0.6511 | 0.8604287
5211202135 | 0.6511 | 0.8604287
5211202150 | 0.6511 | 0.8604287
5211202190 | 0.6511 | 0.8604287
5211202220 | 0.6511 | 0.8604287
5211202240 | 0.6511 | 0.8604287
5211202920 | 0.6511 | 0.8604287
5211202940 | 0.6511 | 0.8604287
5211202960 | 0.6511 | 0.8604287
5211202990 | 0.6511 | 0.8604287
5211310020 | 0.6511 | 0.8604287
5211310025 | 0.6511 | 0.8604287
5211310035 | 0.6511 | 0.8604287
5211310050 | 0.6511 | 0.8604287
5211310090 | 0.6511 | 0.8604287
5211320020 | 0.6511 | 0.8604287
5211320040 | 0.6511 | 0.8604287
5211390020 | 0.6511 | 0.8604287
5211390040 | 0.6511 | 0.8604287
5211390060 | 0.6511 | 0.8604287
5211390090 | 0.6511 | 0.8604287
5211410020 | 0.6511 | 0.8604287
5211410040 | 0.6511 | 0.8604287
5211420020 | 0.7054 | 0.9321861
5211420040 | 0.7054 | 0.9321861
5211420060 | 0.6511 | 0.8604287
5211420080 | 0.6511 | 0.8604287
5211430030 | 0.6511 | 0.8604287
5211430050 | 0.6511 | 0.8604287
5211490020 | 0.6511 | 0.8604287
5211490090 | 0.6511 | 0.8604287
5211510020 | 0.6511 | 0.8604287
5211510030 | 0.6511 | 0.8604287
5211510050 | 0.6511 | 0.8604287
5211510090 | 0.6511 | 0.8604287
5211520020 | 0.6511 | 0.8604287
5211520040 | 0.6511 | 0.8604287
5211590015 | 0.6511 | 0.8604287
5211590025 | 0.6511 | 0.8604287
5211590040 | 0.6511 | 0.8604287
5211590060 | 0.6511 | 0.8604287
5211590090 | 0.6511 | 0.8604287
5212111010 | 0.5845 | 0.7724168
5212111020 | 0.6231 | 0.8234267
5212116010 | 0.8681 | 1.1471942
5212116020 | 0.8681 | 1.1471942
5212116030 | 0.8681 | 1.1471942
5212116040 | 0.8681 | 1.1471942
5212116050 | 0.8681 | 1.1471942
5212116060 | 0.8681 | 1.1471942
5212116070 | 0.8681 | 1.1471942
5212116080 | 0.8681 | 1.1471942
5212116090 | 0.8681 | 1.1471942
5212121010 | 0.5845 | 0.7724168
5212121020 | 0.6231 | 0.8234267
5212126010 | 0.8681 | 1.1471942
5212126020 | 0.8681 | 1.1471942
5212126030 | 0.8681 | 1.1471942
5212126040 | 0.8681 | 1.1471942
5212126050 | 0.8681 | 1.1471942
5212126060 | 0.8681 | 1.1471942
5212126070 | 0.8681 | 1.1471942
5212126080 | 0.8681 | 1.1471942
5212126090 | 0.8681 | 1.1471942
5212131010 | 0.5845 | 0.7724168
5212131020 | 0.6231 | 0.8234267
5212136010 | 0.8681 | 1.1471942
5212136020 | 0.8681 | 1.1471942
5212136030 | 0.8681 | 1.1471942
5212136040 | 0.8681 | 1.1471942
5212136050 | 0.8681 | 1.1471942
5212136060 | 0.8681 | 1.1471942
5212136070 | 0.8681 | 1.1471942
5212136080 | 0.8681 | 1.1471942
5212136090 | 0.8681 | 1.1471942
5212141010 | 0.5845 | 0.7724168
5212141020 | 0.6231 | 0.8234267
5212146010 | 0.8681 | 1.1471942
5212146020 | 0.8681 | 1.1471942
5212146030 | 0.8681 | 1.1471942
5212146090 | 0.8681 | 1.1471942
5212151010 | 0.5845 | 0.7724168
5212151020 | 0.6231 | 0.8234267
5212156010 | 0.8681 | 1.1471942
5212156020 | 0.8681 | 1.1471942
5212156030 | 0.8681 | 1.1471942
5212156040 | 0.8681 | 1.1471942
5212156050 | 0.8681 | 1.1471942
5212156060 | 0.8681 | 1.1471942
5212156070 | 0.8681 | 1.1471942
5212156080 | 0.8681 | 1.1471942
5212156090 | 0.8681 | 1.1471942
5212211010 | 0.5845 | 0.7724168
5212211020 | 0.6231 | 0.8234267
5212216010 | 0.8681 | 1.1471942
5212216020 | 0.8681 | 1.1471942
5212216030 | 0.8681 | 1.1471942
5212216040 | 0.8681 | 1.1471942
5212216050 | 0.8681 | 1.1471942
5212216060 | 0.8681 | 1.1471942
5212216090 | 0.8681 | 1.1471942
5212221010 | 0.5845 | 0.7724168
5212221020 | 0.6231 | 0.8234267
5212226010 | 0.8681 | 1.1471942
5212226020 | 0.8681 | 1.1471942
5212226030 | 0.8681 | 1.1471942
5212226040 | 0.8681 | 1.1471942
5212226050 | 0.8681 | 1.1471942
5212226060 | 0.8681 | 1.1471942
5212226090 | 0.8681 | 1.1471942
5212231010 | 0.5845 | 0.7724168
5212231020 | 0.6231 | 0.8234267
5212236010 | 0.8681 | 1.1471942
5212236020 | 0.8681 | 1.1471942
5212236030 | 0.8681 | 1.1471942
5212236040 | 0.8681 | 1.1471942
5212236050 | 0.8681 | 1.1471942
5212236060 | 0.8681 | 1.1471942
5212236090 | 0.8681 | 1.1471942
5212241010 | 0.5845 | 0.7724168
5212241020 | 0.6231 | 0.8234267
5212246010 | 0.8681 | 1.1471942
5212246020 | 0.7054 | 0.9321861
5212246030 | 0.8681 | 1.1471942
5212246040 | 0.8681 | 1.1471942
5212246090 | 0.8681 | 1.1471942
5212251010 | 0.5845 | 0.7724168
5212251020 | 0.6231 | 0.8234267
5212256010 | 0.8681 | 1.1471942
5212256020 | 0.8681 | 1.1471942
5212256030 | 0.8681 | 1.1471942
5212256040 | 0.8681 | 1.1471942
5212256050 | 0.8681 | 1.1471942
5212256060 | 0.8681 | 1.1471942
5212256090 | 0.8681 | 1.1471942
5309213005 | 0.5426 | 0.7170459
5309213010 | 0.5426 | 0.7170459
5309213015 | 0.5426 | 0.7170459
5309213020 | 0.5426 | 0.7170459
5309214010 | 0.2713 | 0.3585230
5309214090 | 0.2713 | 0.3585230
5309293005 | 0.5426 | 0.7170459
5309293010 | 0.5426 | 0.7170459
5309293015 | 0.5426 | 0.7170459
5309293020 | 0.5426 | 0.7170459
5309294010 | 0.2713 | 0.3585230
5309294090 | 0.2713 | 0.3585230
5311003005 | 0.5426 | 0.7170459
5311003010 | 0.5426 | 0.7170459
5311003015 | 0.5426 | 0.7170459
5311003020 | 0.5426 | 0.7170459
5311004010 | 0.8681 | 1.1471942
5311004020 | 0.8681 | 1.1471942
5407810010 | 0.5426 | 0.7170459
5407810020 | 0.5426 | 0.7170459
5407810030 | 0.5426 | 0.7170459
5407810040 | 0.5426 | 0.7170459
5407810090 | 0.5426 | 0.7170459
5407820010 | 0.5426 | 0.7170459
5407820020 | 0.5426 | 0.7170459
5407820030 | 0.5426 | 0.7170459
5407820040 | 0.5426 | 0.7170459
5407820090 | 0.5426 | 0.7170459
5407830010 | 0.5426 | 0.7170459
5407830020 | 0.5426 | 0.7170459
5407830030 | 0.5426 | 0.7170459
5407830040 | 0.5426 | 0.7170459
5407830090 | 0.5426 | 0.7170459
5407840010 | 0.5426 | 0.7170459
5407840020 | 0.5426 | 0.7170459
5407840030 | 0.5426 | 0.7170459
5407840040 | 0.5426 | 0.7170459
5407840090 | 0.5426 | 0.7170459
5509210000 | 0.1053 | 0.1391540
5509220010 | 0.1053 | 0.1391540
5509220090 | 0.1053 | 0.1391540
5509530030 | 0.3158 | 0.4173297
5509530060 | 0.3158 | 0.4173297
5509620000 | 0.5263 | 0.6955055
5509920000 | 0.5263 | 0.6955055
5510300000 | 0.3684 | 0.4868406
5511200000 | 0.3158 | 0.4173297
5512110010 | 0.1085 | 0.1433828
5512110022 | 0.1085 | 0.1433828
5512110027 | 0.1085 | 0.1433828
5512110030 | 0.1085 | 0.1433828
5512110040 | 0.1085 | 0.1433828
5512110050 | 0.1085 | 0.1433828
5512110060 | 0.1085 | 0.1433828
5512110070 | 0.1085 | 0.1433828
5512110090 | 0.1085 | 0.1433828
5512190005 | 0.1085 | 0.1433828
5512190010 | 0.1085 | 0.1433828
5512190015 | 0.1085 | 0.1433828
5512190022 | 0.1085 | 0.1433828
5512190027 | 0.1085 | 0.1433828
5512190030 | 0.1085 | 0.1433828
5512190035 | 0.1085 | 0.1433828
5512190040 | 0.1085 | 0.1433828
5512190045 | 0.1085 | 0.1433828
5512190050 | 0.1085 | 0.1433828
5512190090 | 0.1085 | 0.1433828
5512210010 | 0.0326 | 0.0430809
5512210020 | 0.0326 | 0.0430809
5512210030 | 0.0326 | 0.0430809
5512210040 | 0.0326 | 0.0430809
5512210060 | 0.0326 | 0.0430809
5512210070 | 0.0326 | 0.0430809
5512210090 | 0.0326 | 0.0430809
5512290010 | 0.217 | 0.2867655
5512910010 | 0.0543 | 0.0717575
5512990005 | 0.0543 | 0.0717575
5512990010 | 0.0543 | 0.0717575
5512990015 | 0.0543 | 0.0717575
5512990020 | 0.0543 | 0.0717575
5512990025 | 0.0543 | 0.0717575
5512990030 | 0.0543 | 0.0717575
5512990035 | 0.0543 | 0.0717575
5512990040 | 0.0543 | 0.0717575
5512990045 | 0.0543 | 0.0717575
5512990090 | 0.0543 | 0.0717575
5513110020 | 0.3581 | 0.4732292
5513110040 | 0.3581 | 0.4732292
5513110060 | 0.3581 | 0.4732292
5513110090 | 0.3581 | 0.4732292
5513120000 | 0.3581 | 0.4732292
5513130020 | 0.3581 | 0.4732292
5513130040 | 0.3581 | 0.4732292
5513130090 | 0.3581 | 0.4732292
5513190010 | 0.3581 | 0.4732292
5513190020 | 0.3581 | 0.4732292
5513190030 | 0.3581 | 0.4732292
5513190040 | 0.3581 | 0.4732292
5513190050 | 0.3581 | 0.4732292
5513190060 | 0.3581 | 0.4732292
5513190090 | 0.3581 | 0.4732292
5513210020 | 0.3581 | 0.4732292
5513210040 | 0.3581 | 0.4732292
5513210060 | 0.3581 | 0.4732292
5513210090 | 0.3581 | 0.4732292
5513230121 | 0.3581 | 0.4732292
5513230141 | 0.3581 | 0.4732292
5513230191 | 0.3581 | 0.4732292
5513290010 | 0.3581 | 0.4732292
5513290020 | 0.3581 | 0.4732292
5513290030 | 0.3581 | 0.4732292
5513290040 | 0.3581 | 0.4732292
5513290050 | 0.3581 | 0.4732292
5513290060 | 0.3581 | 0.4732292
5513290090 | 0.3581 | 0.4732292
5513310000 | 0.3581 | 0.4732292
5513390111 | 0.3581 | 0.4732292
5513390115 | 0.3581 | 0.4732292
5513390191 | 0.3581 | 0.4732292
5513410020 | 0.3581 | 0.4732292
5513410040 | 0.3581 | 0.4732292
5513410060 | 0.3581 | 0.4732292
5513410090 | 0.3581 | 0.4732292
5513491000 | 0.3581 | 0.4732292
5513492020 | 0.3581 | 0.4732292
5513492040 | 0.3581 | 0.4732292
5513492090 | 0.3581 | 0.4732292
5513499010 | 0.3581 | 0.4732292
5513499020 | 0.3581 | 0.4732292
5513499030 | 0.3581 | 0.4732292
5513499040 | 0.3581 | 0.4732292
5513499050 | 0.3581 | 0.4732292
5513499060 | 0.3581 | 0.4732292
5513499090 | 0.3581 | 0.4732292
5514110020 | 0.4341 | 0.5736632
5514110030 | 0.4341 | 0.5736632
5514110050 | 0.4341 | 0.5736632
5514110090 | 0.4341 | 0.5736632
5514120020 | 0.4341 | 0.5736632
5514120040 | 0.4341 | 0.5736632
5514191020 | 0.4341 | 0.5736632
5514191040 | 0.4341 | 0.5736632
5514191090 | 0.4341 | 0.5736632
5514199010 | 0.4341 | 0.5736632
5514199020 | 0.4341 | 0.5736632
5514199030 | 0.4341 | 0.5736632
5514199040 | 0.4341 | 0.5736632
5514199090 | 0.4341 | 0.5736632
5514210020 | 0.4341 | 0.5736632
5514210030 | 0.4341 | 0.5736632
5514210050 | 0.4341 | 0.5736632
5514210090 | 0.4341 | 0.5736632
5514220020 | 0.4341 | 0.5736632
5514220040 | 0.4341 | 0.5736632
5514230020 | 0.4341 | 0.5736632
5514230040 | 0.4341 | 0.5736632
5514230090 | 0.4341 | 0.5736632
5514290010 | 0.4341 | 0.5736632
5514290020 | 0.4341 | 0.5736632
5514290030 | 0.4341 | 0.5736632
5514290040 | 0.4341 | 0.5736632
5514290090 | 0.4341 | 0.5736632
5514303100 | 0.4341 | 0.5736632
5514303210 | 0.4341 | 0.5736632
5514303215 | 0.4341 | 0.5736632
5514303280 | 0.4341 | 0.5736632
5514303310 | 0.4341 | 0.5736632
5514303390 | 0.4341 | 0.5736632
5514303910 | 0.4341 | 0.5736632
5514303920 | 0.4341 | 0.5736632
5514303990 | 0.4341 | 0.5736632
5514410020 | 0.4341 | 0.5736632
5514410030 | 0.4341 | 0.5736632
5514410050 | 0.4341 | 0.5736632
5514410090 | 0.4341 | 0.5736632
5514420020 | 0.4341 | 0.5736632
5514420040 | 0.4341 | 0.5736632
5514430020 | 0.4341 | 0.5736632
5514430040 | 0.4341 | 0.5736632
5514430090 | 0.4341 | 0.5736632
5514490010 | 0.4341 | 0.5736632
5514490020 | 0.4341 | 0.5736632
5514490030 | 0.4341 | 0.5736632
5514490040 | 0.4341 | 0.5736632
5514490090 | 0.4341 | 0.5736632
5515110005 | 0.1085 | 0.1433828
5515110010 | 0.1085 | 0.1433828
5515110015 | 0.1085 | 0.1433828
5515110020 | 0.1085 | 0.1433828
5515110025 | 0.1085 | 0.1433828
5515110030 | 0.1085 | 0.1433828
5515110035 | 0.1085 | 0.1433828
5515110040 | 0.1085 | 0.1433828
5515110045 | 0.1085 | 0.1433828
5515110090 | 0.1085 | 0.1433828
5515120010 | 0.1085 | 0.1433828
5515120022 | 0.1085 | 0.1433828
5515120027 | 0.1085 | 0.1433828
5515120030 | 0.1085 | 0.1433828
5515120040 | 0.1085 | 0.1433828
5515120090 | 0.1085 | 0.1433828
5515190005 | 0.1085 | 0.1433828
5515190010 | 0.1085 | 0.1433828
5515190015 | 0.1085 | 0.1433828
5515190020 | 0.1085 | 0.1433828
5515190025 | 0.1085 | 0.1433828
5515190030 | 0.1085 | 0.1433828
5515190035 | 0.1085 | 0.1433828
5515190040 | 0.1085 | 0.1433828
5515190045 | 0.1085 | 0.1433828
5515190090 | 0.1085 | 0.1433828
5515290005 | 0.1085 | 0.1433828
5515290010 | 0.1085 | 0.1433828
5515290015 | 0.1085 | 0.1433828
5515290020 | 0.1085 | 0.1433828
5515290025 | 0.1085 | 0.1433828
5515290030 | 0.1085 | 0.1433828
5515290035 | 0.1085 | 0.1433828
5515290040 | 0.1085 | 0.1433828
5515290045 | 0.1085 | 0.1433828
5515290090 | 0.1085 | 0.1433828
5515999005 | 0.1085 | 0.1433828
5515999010 | 0.1085 | 0.1433828
5515999015 | 0.1085 | 0.1433828
5515999020 | 0.1085 | 0.1433828
5515999025 | 0.1085 | 0.1433828
5515999030 | 0.1085 | 0.1433828
5515999035 | 0.1085 | 0.1433828
5515999040 | 0.1085 | 0.1433828
5515999045 | 0.1085 | 0.1433828
5515999090 | 0.1085 | 0.1433828
5516210010 | 0.1085 | 0.1433828
5516210020 | 0.1085 | 0.1433828
5516210030 | 0.1085 | 0.1433828
5516210040 | 0.1085 | 0.1433828
5516210090 | 0.1085 | 0.1433828
5516220010 | 0.1085 | 0.1433828
5516220020 | 0.1085 | 0.1433828
5516220030 | 0.1085 | 0.1433828
5516220040 | 0.1085 | 0.1433828
5516220090 | 0.1085 | 0.1433828
5516230010 | 0.1085 | 0.1433828
5516230020 | 0.1085 | 0.1433828
5516230030 | 0.1085 | 0.1433828
5516230040 | 0.1085 | 0.1433828
5516230090 | 0.1085 | 0.1433828
5516240010 | 0.1085 | 0.1433828
5516240020 | 0.1085 | 0.1433828
5516240030 | 0.1085 | 0.1433828
5516240040 | 0.1085 | 0.1433828
5516240085 | 0.1085 | 0.1433828
5516240095 | 0.1085 | 0.1433828
5516410010 | 0.3798 | 0.5019057
5516410022 | 0.3798 | 0.5019057
5516410027 | 0.3798 | 0.5019057
5516410030 | 0.3798 | 0.5019057
5516410040 | 0.3798 | 0.5019057
5516410050 | 0.3798 | 0.5019057
5516410060 | 0.3798 | 0.5019057
5516410070 | 0.3798 | 0.5019057
5516410090 | 0.3798 | 0.5019057
5516420010 | 0.3798 | 0.5019057
5516420022 | 0.3798 | 0.5019057
5516420027 | 0.3798 | 0.5019057
5516420030 | 0.3798 | 0.5019057
5516420040 | 0.3798 | 0.5019057
5516420050 | 0.3798 | 0.5019057
5516420060 | 0.3798 | 0.5019057
5516420070 | 0.3798 | 0.5019057
5516420090 | 0.3798 | 0.5019057
5516430010 | 0.217 | 0.2867655
5516430015 | 0.3798 | 0.5019057
5516430020 | 0.3798 | 0.5019057
5516430035 | 0.3798 | 0.5019057
5516430080 | 0.3798 | 0.5019057
5516440010 | 0.3798 | 0.5019057
5516440022 | 0.3798 | 0.5019057
5516440027 | 0.3798 | 0.5019057
5516440030 | 0.3798 | 0.5019057
5516440040 | 0.3798 | 0.5019057
5516440050 | 0.3798 | 0.5019057
5516440060 | 0.3798 | 0.5019057
5516440070 | 0.3798 | 0.5019057
5516440090 | 0.3798 | 0.5019057
5516910010 | 0.0543 | 0.0717575
5516910020 | 0.0543 | 0.0717575
5516910030 | 0.0543 | 0.0717575
5516910040 | 0.0543 | 0.0717575
5516910050 | 0.0543 | 0.0717575
5516910060 | 0.0543 | 0.0717575
5516910070 | 0.0543 | 0.0717575
5516910090 | 0.0543 | 0.0717575
5516920010 | 0.0543 | 0.0717575
5516920020 | 0.0543 | 0.0717575
5516920030 | 0.0543 | 0.0717575
5516920040 | 0.0543 | 0.0717575
5516920050 | 0.0543 | 0.0717575
5516920060 | 0.0543 | 0.0717575
5516920070 | 0.0543 | 0.0717575
5516920090 | 0.0543 | 0.0717575
5516930010 | 0.0543 | 0.0717575
5516930020 | 0.0543 | 0.0717575
5516930090 | 0.0543 | 0.0717575
5516940010 | 0.0543 | 0.0717575
5516940020 | 0.0543 | 0.0717575
5516940030 | 0.0543 | 0.0717575
5516940040 | 0.0543 | 0.0717575
5516940050 | 0.0543 | 0.0717575
5516940060 | 0.0543 | 0.0717575
5516940070 | 0.0543 | 0.0717575
5516940090 | 0.0543 | 0.0717575
5601210010 | 0.9767 | 1.2907091
5601210090 | 0.9767 | 1.2907091
5601220010 | 0.1085 | 0.1433828
5601220050 | 0.1085 | 0.1433828
5601220091 | 0.1085 | 0.1433828
5601300000 | 0.3256 | 0.4302804
5602101000 | 0.0543 | 0.0717575
5602109090 | 0.4341 | 0.5736632
5602290000 | 0.4341 | 0.5736632
5602909000 | 0.3256 | 0.4302804
5603143000 | 0.2713 | 0.3585230
5603910010 | 0.0217 | 0.0286766
5603910090 | 0.0651 | 0.0860297
5603920010 | 0.0217 | 0.0286766
5603920090 | 0.0651 | 0.0860297
5603930010 | 0.0217 | 0.0286766
5603930090 | 0.0651 | 0.0860297
5603941090 | 0.3256 | 0.4302804
5603943000 | 0.1628 | 0.2151402
5603949010 | 0.0326 | 0.0430809
5604100000 | 0.2632 | 0.3478188
5604909000 | 0.2105 | 0.2781758
5605009000 | 0.1579 | 0.2086649
5606000010 | 0.1263 | 0.1669055
5606000090 | 0.1263 | 0.1669055
5607502500 | 0.1684 | 0.2225406
5607909000 | 0.8421 | 1.1128352
5608901000 | 1.0526 | 1.3910109
5608902300 | 0.6316 | 0.8346594
5608902700 | 0.6316 | 0.8346594
5608903000 | 0.3158 | 0.4173297
5609001000 | 0.8421 | 1.1128352
5609004000 | 0.2105 | 0.2781758
5701101300 | 0.0526 | 0.0695109
5701101600 | 0.0526 | 0.0695109
5701104000 | 0.0526 | 0.0695109
5701109000 | 0.0526 | 0.0695109
5701901010 | 1 | 1.3215000
5701901020 | 1 | 1.3215000
5701901030 | 0.0526 | 0.0695109
5701901090 | 0.0526 | 0.0695109
5701902010 | 0.9474 | 1.2519891
5701902020 | 0.9474 | 1.2519891
5701902030 | 0.0526 | 0.0695109
5701902090 | 0.0526 | 0.0695109
5702101000 | 0.0447 | 0.0590711
5702109010 | 0.0447 | 0.0590711
5702109020 | 0.85 | 1.1232750
5702109030 | 0.0447 | 0.0590711
5702109090 | 0.0447 | 0.0590711
5702201000 | 0.0447 | 0.0590711
5702311000 | 0.0447 | 0.0590711
5702312000 | 0.0895 | 0.1182743
5702322000 | 0.0895 | 0.1182743
5702391000 | 0.0895 | 0.1182743
5702392010 | 0.8053 | 1.0642040
5702392090 | 0.0447 | 0.0590711
5702411000 | 0.0447 | 0.0590711
5702412000 | 0.0447 | 0.0590711
5702421000 | 0.0895 | 0.1182743
5702422020 | 0.0895 | 0.1182743
5702422080 | 0.0895 | 0.1182743
5702491020 | 0.8947 | 1.1823461
5702491080 | 0.8947 | 1.1823461
5702492000 | 0.0895 | 0.1182743
5702502000 | 0.0895 | 0.1182743
5702504000 | 0.0447 | 0.0590711
5702505200 | 0.0895 | 0.1182743
5702505600 | 0.85 | 1.1232750
5702912000 | 0.0447 | 0.0590711
5702913000 | 0.0447 | 0.0590711
5702914000 | 0.0447 | 0.0590711
5702921000 | 0.0447 | 0.0590711
5702929000 | 0.0447 | 0.0590711
5702990500 | 0.8947 | 1.1823461
5702991500 | 0.8947 | 1.1823461
5703291000 | 0.0452 | 0.0597318
5703292010 | 0.0452 | 0.0597318
5703391000 | 0.0452 | 0.0597318
5703900000 | 0.3615 | 0.4777223
5705001000 | 0.0452 | 0.0597318
5705002005 | 0.0452 | 0.0597318
5705002015 | 0.0452 | 0.0597318
5705002020 | 0.7682 | 1.0151763
5705002030 | 0.0452 | 0.0597318
5705002090 | 0.1808 | 0.2389272
5801210000 | 0.9767 | 1.2907091
5801221000 | 0.9767 | 1.2907091
5801229000 | 0.9767 | 1.2907091
5801230000 | 0.9767 | 1.2907091
5801260010 | 0.7596 | 1.0038114
5801260020 | 0.7596 | 1.0038114
5801271000 | 0.9767 | 1.2907091
5801275010 | 1.0852 | 1.4340918
5801275020 | 0.9767 | 1.2907091
5801310000 | 0.217 | 0.2867655
5801320000 | 0.217 | 0.2867655
5801330000 | 0.217 | 0.2867655
5801360010 | 0.217 | 0.2867655
5801360020 | 0.217 | 0.2867655
5802101000 | 1.0309 | 1.3623344
5802109000 | 1.0309 | 1.3623344
5802200020 | 0.1085 | 0.1433828
5802200090 | 0.3256 | 0.4302804
5802300030 | 0.4341 | 0.5736632
5802300090 | 0.1085 | 0.1433828
5803001000 | 1.0852 | 1.4340918
5803002000 | 0.8681 | 1.1471942
5803003000 | 0.8681 | 1.1471942
5803005000 | 0.3256 | 0.4302804
5804101000 | 0.4341 | 0.5736632
5804109090 | 0.2193 | 0.2898050
5804291000 | 0.8772 | 1.1592198
5804300020 | 0.3256 | 0.4302804
5805001000 | 0.1085 | 0.1433828
5805003000 | 1.0852 | 1.4340918
5806101000 | 0.8681 | 1.1471942
5806103090 | 0.217 | 0.2867655
5806200010 | 0.2577 | 0.3405506
5806200090 | 0.2577 | 0.3405506
5806310000 | 0.8681 | 1.1471942
5806393080 | 0.217 | 0.2867655
5806400000 | 0.0814 | 0.1075701
5807100510 | 0.8681 | 1.1471942
5807102010 | 0.8681 | 1.1471942
5807900510 | 0.8681 | 1.1471942
5807902010 | 0.8681 | 1.1471942
5808104000 | 0.217 | 0.2867655
5808107000 | 0.217 | 0.2867655
5808900010 | 0.4341 | 0.5736632
5810100000 | 0.3256 | 0.4302804
5810910010 | 0.7596 | 1.0038114
5810910020 | 0.7596 | 1.0038114
5810921000 | 0.217 | 0.2867655
5810929030 | 0.217 | 0.2867655
5810929050 | 0.217 | 0.2867655
5810929080 | 0.217 | 0.2867655
5811002000 | 0.8681 | 1.1471942
5901102000 | 0.5643 | 0.7457225
5901904000 | 0.8139 | 1.0755689
5903101000 | 0.4341 | 0.5736632
5903103000 | 0.1085 | 0.1433828
5903201000 | 0.4341 | 0.5736632
5903203090 | 0.1085 | 0.1433828
5903901000 | 0.4341 | 0.5736632
5903903090 | 0.1085 | 0.1433828
5904901000 | 0.0326 | 0.0430809
5905001000 | 0.1085 | 0.1433828
5905009000 | 0.1085 | 0.1433828
5906100000 | 0.4341 | 0.5736632
5906911000 | 0.4341 | 0.5736632
5906913000 | 0.1085 | 0.1433828
5906991000 | 0.4341 | 0.5736632
5906993000 | 0.1085 | 0.1433828
5907002500 | 0.3798 | 0.5019057
5907003500 | 0.3798 | 0.5019057
5907008090 | 0.3798 | 0.5019057
5908000000 | 0.7813 | 1.0324880
5909001000 | 0.6837 | 0.9035096
5909002000 | 0.4883 | 0.6452885
5910001010 | 0.3798 | 0.5019057
5910001020 | 0.3798 | 0.5019057
5910001030 | 0.3798 | 0.5019057
5910001060 | 0.3798 | 0.5019057
5910001070 | 0.3798 | 0.5019057
5910001090 | 0.6837 | 0.9035096
5910009000 | 0.5697 | 0.7528586
5911101000 | 0.1736 | 0.2294124
5911102000 | 0.0434 | 0.0573531
5911201000 | 0.4341 | 0.5736632
5911310010 | 0.4341 | 0.5736632
5911310020 | 0.4341 | 0.5736632
5911310030 | 0.4341 | 0.5736632
5911310080 | 0.4341 | 0.5736632
5911320010 | 0.4341 | 0.5736632
5911320020 | 0.4341 | 0.5736632
5911320030 | 0.4341 | 0.5736632
5911320080 | 0.4341 | 0.5736632
5911400100 | 0.5426 | 0.7170459
5911900040 | 0.3158 | 0.4173297
5911900080 | 0.2105 | 0.2781758
6001106000 | 0.1096 | 0.1448364
6001210000 | 0.9868 | 1.3040562
6001220000 | 0.1096 | 0.1448364
6001290000 | 0.1096 | 0.1448364
6001910010 | 0.8772 | 1.1592198
6001910020 | 0.8772 | 1.1592198
6001920010 | 0.0548 | 0.0724182
6001920020 | 0.0548 | 0.0724182
6001920030 | 0.0548 | 0.0724182
6001920040 | 0.0548 | 0.0724182
6001999000 | 0.1096 | 0.1448364
6002404000 | 0.7401 | 0.9780422
6002408020 | 0.1974 | 0.2608641
6002408080 | 0.1974 | 0.2608641
6002904000 | 0.7895 | 1.0433243
6002908020 | 0.1974 | 0.2608641
6002908080 | 0.1974 | 0.2608641
6003201000 | 0.8772 | 1.1592198
6003203000 | 0.8772 | 1.1592198
6003301000 | 0.1096 | 0.1448364
6003306000 | 0.1096 | 0.1448364
6003401000 | 0.1096 | 0.1448364
6003406000 | 0.1096 | 0.1448364
6003901000 | 0.1096 | 0.1448364
6003909000 | 0.1096 | 0.1448364
6004100010 | 0.2961 | 0.3912962
6004100025 | 0.2961 | 0.3912962
6004100085 | 0.2961 | 0.3912962
6004902010 | 0.2961 | 0.3912962
6004902025 | 0.2961 | 0.3912962
6004902085 | 0.2961 | 0.3912962
6004909000 | 0.2961 | 0.3912962
6005210000 | 0.7127 | 0.9418331
6005220000 | 0.7127 | 0.9418331
6005230000 | 0.7127 | 0.9418331
6005240000 | 0.7127 | 0.9418331
6005360010 | 0.1096 | 0.1448364
6005360080 | 0.1096 | 0.1448364
6005370010 | 0.1096 | 0.1448364
6005370080 | 0.1096 | 0.1448364
6005380010 | 0.1096 | 0.1448364
6005380080 | 0.1096 | 0.1448364
6005390010 | 0.1096 | 0.1448364
6005390080 | 0.1096 | 0.1448364
6005410010 | 0.1096 | 0.1448364
6005410080 | 0.1096 | 0.1448364
6005420010 | 0.1096 | 0.1448364
6005420080 | 0.1096 | 0.1448364
6005430010 | 0.1096 | 0.1448364
6005430080 | 0.1096 | 0.1448364
6005440010 | 0.1096 | 0.1448364
6005440080 | 0.1096 | 0.1448364
6005909000 | 0.1096 | 0.1448364
6006211000 | 1.0965 | 1.4490248
6006219020 | 0.7675 | 1.0142513
6006219080 | 0.7675 | 1.0142513
6006221000 | 1.0965 | 1.4490248
6006229020 | 0.7675 | 1.0142513
6006229080 | 0.7675 | 1.0142513
6006231000 | 1.0965 | 1.4490248
6006239020 | 0.7675 | 1.0142513
6006239080 | 0.7675 | 1.0142513
6006241000 | 1.0965 | 1.4490248
6006249020 | 0.7675 | 1.0142513
6006249080 | 0.7675 | 1.0142513
6006310020 | 0.3289 | 0.4346414
6006310040 | 0.3289 | 0.4346414
6006310060 | 0.3289 | 0.4346414
6006310080 | 0.3289 | 0.4346414
6006320020 | 0.3289 | 0.4346414
6006320040 | 0.3289 | 0.4346414
6006320060 | 0.3289 | 0.4346414
6006320080 | 0.3289 | 0.4346414
6006330020 | 0.3289 | 0.4346414
6006330040 | 0.3289 | 0.4346414
6006330060 | 0.3289 | 0.4346414
6006330080 | 0.3289 | 0.4346414
6006340020 | 0.3289 | 0.4346414
6006340040 | 0.3289 | 0.4346414
6006340060 | 0.3289 | 0.4346414
6006340080 | 0.3289 | 0.4346414
6006410025 | 0.3289 | 0.4346414
6006410085 | 0.3289 | 0.4346414
6006420025 | 0.3289 | 0.4346414
6006420085 | 0.3289 | 0.4346414
6006430025 | 0.3289 | 0.4346414
6006430085 | 0.3289 | 0.4346414
6006440025 | 0.3289 | 0.4346414
6006440085 | 0.3289 | 0.4346414
6006909000 | 0.1096 | 0.1448364
6101200010 | 1.02 | 1.3479300
6101200020 | 1.02 | 1.3479300
6101301000 | 0.2072 | 0.2738148
6101900500 | 0.1912 | 0.2526708
6101909010 | 0.5737 | 0.7581446
6101909030 | 0.51 | 0.6739650
6101909060 | 0.255 | 0.3369825
6102100000 | 0.255 | 0.3369825
6102200010 | 0.9562 | 1.2636183
6102200020 | 0.9562 | 1.2636183
6102300500 | 0.1785 | 0.2358878
6102909005 | 0.5737 | 0.7581446
6102909015 | 0.4462 | 0.5896533
6102909030 | 0.255 | 0.3369825
6103101000 | 0.0637 | 0.0841796
6103104000 | 0.1218 | 0.1609587
6103105000 | 0.1218 | 0.1609587
6103106010 | 0.8528 | 1.1269752
6103106015 | 0.8528 | 1.1269752
6103106030 | 0.8528 | 1.1269752
6103109010 | 0.5482 | 0.7244463
6103109020 | 0.5482 | 0.7244463
6103109030 | 0.5482 | 0.7244463
6103109040 | 0.1218 | 0.1609587
6103109050 | 0.1218 | 0.1609587
6103109080 | 0.1827 | 0.2414381
6103320000 | 0.8722 | 1.1526123
6103398010 | 0.7476 | 0.9879534
6103398030 | 0.3738 | 0.4939767
6103398060 | 0.2492 | 0.3293178
6103411010 | 0.3576 | 0.4725684
6103411020 | 0.3576 | 0.4725684
6103412000 | 0.3576 | 0.4725684
6103421020 | 0.8343 | 1.1025275
6103421035 | 0.8343 | 1.1025275
6103421040 | 0.8343 | 1.1025275
6103421050 | 0.8343 | 1.1025275
6103421065 | 0.8343 | 1.1025275
6103421070 | 0.8343 | 1.1025275
6103422010 | 0.8343 | 1.1025275
6103422015 | 0.8343 | 1.1025275
6103422025 | 0.8343 | 1.1025275
6103431520 | 0.2384 | 0.3150456
6103431535 | 0.2384 | 0.3150456
6103431540 | 0.2384 | 0.3150456
6103431550 | 0.2384 | 0.3150456
6103431565 | 0.2384 | 0.3150456
6103431570 | 0.2384 | 0.3150456
6103432020 | 0.2384 | 0.3150456
6103432025 | 0.2384 | 0.3150456
6103491020 | 0.2437 | 0.3220496
6103491060 | 0.2437 | 0.3220496
6103492000 | 0.2437 | 0.3220496
6103498010 | 0.5482 | 0.7244463
6103498014 | 0.3655 | 0.4830083
6103498024 | 0.2437 | 0.3220496
6103498026 | 0.2437 | 0.3220496
6103498034 | 0.5482 | 0.7244463
6103498038 | 0.3655 | 0.4830083
6103498060 | 0.2437 | 0.3220496
6104196010 | 0.8722 | 1.1526123
6104196020 | 0.8722 | 1.1526123
6104196030 | 0.8722 | 1.1526123
6104196040 | 0.8722 | 1.1526123
6104198010 | 0.5607 | 0.7409651
6104198020 | 0.5607 | 0.7409651
6104198030 | 0.5607 | 0.7409651
6104198040 | 0.5607 | 0.7409651
6104198060 | 0.3738 | 0.4939767
6104198090 | 0.2492 | 0.3293178
6104320000 | 0.8722 | 1.1526123
6104392010 | 0.5607 | 0.7409651
6104392030 | 0.3738 | 0.4939767
6104392090 | 0.2492 | 0.3293178
6104420010 | 0.8528 | 1.1269752
6104420020 | 0.8528 | 1.1269752
6104499010 | 0.5482 | 0.7244463
6104499030 | 0.3655 | 0.4830083
6104499060 | 0.2437 | 0.3220496
6104520010 | 0.8822 | 1.1658273
6104520020 | 0.8822 | 1.1658273
6104598010 | 0.5672 | 0.7495548
6104598030 | 0.3781 | 0.4996592
6104598090 | 0.2521 | 0.3331502
6104610010 | 0.2384 | 0.3150456
6104610020 | 0.2384 | 0.3150456
6104610030 | 0.2384 | 0.3150456
6104621010 | 0.7509 | 0.9923144
6104621020 | 0.8343 | 1.1025275
6104621030 | 0.8343 | 1.1025275
6104622006 | 0.7151 | 0.9450047
6104622011 | 0.8343 | 1.1025275
6104622016 | 0.7151 | 0.9450047
6104622021 | 0.8343 | 1.1025275
6104622026 | 0.7151 | 0.9450047
6104622028 | 0.8343 | 1.1025275
6104622030 | 0.8343 | 1.1025275
6104622050 | 0.8343 | 1.1025275
6104622060 | 0.8343 | 1.1025275
6104631020 | 0.2384 | 0.3150456
6104631030 | 0.2384 | 0.3150456
6104632006 | 0.8343 | 1.1025275
6104632011 | 0.8343 | 1.1025275
6104632016 | 0.7151 | 0.9450047
6104632021 | 0.8343 | 1.1025275
6104632026 | 0.3576 | 0.4725684
6104632028 | 0.3576 | 0.4725684
6104632030 | 0.3576 | 0.4725684
6104632050 | 0.7151 | 0.9450047
6104632060 | 0.3576 | 0.4725684
6104691000 | 0.3655 | 0.4830083
6104692030 | 0.3655 | 0.4830083
6104692060 | 0.3655 | 0.4830083
6104698010 | 0.5482 | 0.7244463
6104698014 | 0.3655 | 0.4830083
6104698020 | 0.2437 | 0.3220496
6104698022 | 0.5482 | 0.7244463
6104698026 | 0.3655 | 0.4830083
6104698038 | 0.2437 | 0.3220496
6104698040 | 0.2437 | 0.3220496
6105100010 | 0.9332 | 1.2332238
6105100020 | 0.9332 | 1.2332238
6105100030 | 0.9332 | 1.2332238
6105202010 | 0.2916 | 0.3853494
6105202020 | 0.2916 | 0.3853494
6105202030 | 0.2916 | 0.3853494
6105908010 | 0.5249 | 0.6936554
6105908030 | 0.3499 | 0.4623929
6105908060 | 0.2333 | 0.3083060
6106100010 | 0.9332 | 1.2332238
6106100020 | 0.9332 | 1.2332238
6106100030 | 0.9332 | 1.2332238
6106202010 | 0.2916 | 0.3853494
6106202020 | 0.4666 | 0.6166119
6106202030 | 0.2916 | 0.3853494
6106901500 | 0.0583 | 0.0770435
6106902510 | 0.5249 | 0.6936554
6106902530 | 0.3499 | 0.4623929
6106902550 | 0.2916 | 0.3853494
6106903010 | 0.5249 | 0.6936554
6106903030 | 0.3499 | 0.4623929
6106903040 | 0.2916 | 0.3853494
6107110010 | 1.0727 | 1.4175731
6107110020 | 1.0727 | 1.4175731
6107120010 | 0.4767 | 0.6299591
6107120020 | 0.4767 | 0.6299591
6107191000 | 0.1192 | 0.1575228
6107210010 | 0.8343 | 1.1025275
6107210020 | 0.7151 | 0.9450047
6107220010 | 0.3576 | 0.4725684
6107220015 | 0.1192 | 0.1575228
6107220025 | 0.2384 | 0.3150456
6107299000 | 0.1788 | 0.2362842
6107910030 | 1.1918 | 1.5749637
6107910040 | 1.1918 | 1.5749637
6107910090 | 0.9535 | 1.2600503
6107991030 | 0.3576 | 0.4725684
6107991040 | 0.3576 | 0.4725684
6107991090 | 0.3576 | 0.4725684
6107999000 | 0.1192 | 0.1575228
6108199010 | 1.0611 | 1.4022437
6108199030 | 0.2358 | 0.3116097
6108210010 | 1.179 | 1.5580485
6108210020 | 1.179 | 1.5580485
6108299000 | 0.3537 | 0.4674146
6108310010 | 1.0611 | 1.4022437
6108310020 | 1.0611 | 1.4022437
6108320010 | 0.2358 | 0.3116097
6108320015 | 0.2358 | 0.3116097
6108320025 | 0.2358 | 0.3116097
6108398000 | 0.3537 | 0.4674146
6108910005 | 1.179 | 1.5580485
6108910015 | 1.179 | 1.5580485
6108910025 | 1.179 | 1.5580485
6108910030 | 1.179 | 1.5580485
6108910040 | 1.179 | 1.5580485
6108920005 | 0.2358 | 0.3116097
6108920015 | 0.2358 | 0.3116097
6108920025 | 0.2358 | 0.3116097
6108920030 | 0.2358 | 0.3116097
6108920040 | 0.2358 | 0.3116097
6108999000 | 0.3537 | 0.4674146
6109100004 | 1.0022 | 1.3244073
6109100007 | 1.0022 | 1.3244073
6109100011 | 1.0022 | 1.3244073
6109100012 | 1.0022 | 1.3244073
6109100014 | 1.0022 | 1.3244073
6109100018 | 1.0022 | 1.3244073
6109100023 | 1.0022 | 1.3244073
6109100027 | 1.0022 | 1.3244073
6109100037 | 1.0022 | 1.3244073
6109100040 | 1.0022 | 1.3244073
6109100045 | 1.0022 | 1.3244073
6109100060 | 1.0022 | 1.3244073
6109100065 | 1.0022 | 1.3244073
6109100070 | 1.0022 | 1.3244073
6109901007 | 0.2948 | 0.3895782
6109901009 | 0.2948 | 0.3895782
6109901013 | 0.2948 | 0.3895782
6109901025 | 0.2948 | 0.3895782
6109901047 | 0.2948 | 0.3895782
6109901049 | 0.2948 | 0.3895782
6109901050 | 0.2948 | 0.3895782
6109901060 | 0.2948 | 0.3895782
6109901065 | 0.2948 | 0.3895782
6109901070 | 0.2948 | 0.3895782
6109901075 | 0.2948 | 0.3895782
6109901090 | 0.2948 | 0.3895782
6109908010 | 0.3499 | 0.4623929
6109908030 | 0.2333 | 0.3083060
6110201010 | 0.7476 | 0.9879534
6110201020 | 0.7476 | 0.9879534
6110201022 | 0.7476 | 0.9879534
6110201024 | 0.7476 | 0.9879534
6110201026 | 0.7476 | 0.9879534
6110201029 | 0.7476 | 0.9879534
6110201031 | 0.7476 | 0.9879534
6110201033 | 0.7476 | 0.9879534
6110202005 | 1.1214 | 1.4819301
6110202010 | 1.1214 | 1.4819301
6110202015 | 1.1214 | 1.4819301
6110202020 | 1.1214 | 1.4819301
6110202025 | 1.1214 | 1.4819301
6110202030 | 1.1214 | 1.4819301
6110202035 | 1.1214 | 1.4819301
6110202041 | 1.0965 | 1.4490248
6110202044 | 1.0965 | 1.4490248
6110202046 | 1.0965 | 1.4490248
6110202049 | 1.0965 | 1.4490248
6110202067 | 1.0965 | 1.4490248
6110202069 | 1.0965 | 1.4490248
6110202077 | 1.0965 | 1.4490248
6110202079 | 1.0965 | 1.4490248
6110909010 | 0.5607 | 0.7409651
6110909012 | 0.1246 | 0.1646589
6110909014 | 0.3738 | 0.4939767
6110909026 | 0.5607 | 0.7409651
6110909028 | 0.1869 | 0.2469884
6110909030 | 0.3738 | 0.4939767
6110909044 | 0.5607 | 0.7409651
6110909046 | 0.5607 | 0.7409651
6110909052 | 0.3738 | 0.4939767
6110909054 | 0.3738 | 0.4939767
6110909064 | 0.2492 | 0.3293178
6110909066 | 0.2492 | 0.3293178
6110909067 | 0.5607 | 0.7409651
6110909069 | 0.5607 | 0.7409651
6110909071 | 0.5607 | 0.7409651
6110909073 | 0.5607 | 0.7409651
6110909079 | 0.3738 | 0.4939767
6110909080 | 0.3738 | 0.4939767
6110909081 | 0.3738 | 0.4939767
6110909082 | 0.3738 | 0.4939767
6110909088 | 0.2492 | 0.3293178
6110909090 | 0.2492 | 0.3293178
6111201000 | 1.1918 | 1.5749637
6111202000 | 1.1918 | 1.5749637
6111203000 | 0.9535 | 1.2600503
6111204000 | 0.9535 | 1.2600503
6111205000 | 0.9535 | 1.2600503
6111206010 | 0.9535 | 1.2600503
6111206020 | 0.9535 | 1.2600503
6111206030 | 0.9535 | 1.2600503
6111206050 | 0.9535 | 1.2600503
6111206070 | 0.9535 | 1.2600503
6111301000 | 0.2384 | 0.3150456
6111302000 | 0.2384 | 0.3150456
6111303000 | 0.2384 | 0.3150456
6111304000 | 0.2384 | 0.3150456
6111305010 | 0.2384 | 0.3150456
6111305015 | 0.2384 | 0.3150456
6111305020 | 0.2384 | 0.3150456
6111305030 | 0.2384 | 0.3150456
6111305050 | 0.2384 | 0.3150456
6111305070 | 0.2384 | 0.3150456
6111901000 | 0.2384 | 0.3150456
6111902000 | 0.2384 | 0.3150456
6111903000 | 0.2384 | 0.3150456
6111904000 | 0.2384 | 0.3150456
6111905010 | 0.2384 | 0.3150456
6111905020 | 0.2384 | 0.3150456
6111905030 | 0.2384 | 0.3150456
6111905050 | 0.2384 | 0.3150456
6111905070 | 0.2384 | 0.3150456
6112110010 | 0.9535 | 1.2600503
6112110020 | 0.9535 | 1.2600503
6112110030 | 0.9535 | 1.2600503
6112110040 | 0.9535 | 1.2600503
6112110050 | 0.9535 | 1.2600503
6112110060 | 0.9535 | 1.2600503
6112120010 | 0.2384 | 0.3150456
6112120020 | 0.2384 | 0.3150456
6112120030 | 0.2384 | 0.3150456
6112120040 | 0.2384 | 0.3150456
6112120050 | 0.2384 | 0.3150456
6112120060 | 0.2384 | 0.3150456
6112191010 | 0.2492 | 0.3293178
6112191020 | 0.2492 | 0.3293178
6112191030 | 0.2492 | 0.3293178
6112191040 | 0.2492 | 0.3293178
6112191050 | 0.2492 | 0.3293178
6112191060 | 0.2492 | 0.3293178
6112201060 | 0.2492 | 0.3293178
6112201070 | 0.2492 | 0.3293178
6112201080 | 0.2492 | 0.3293178
6112201090 | 0.2492 | 0.3293178
6112202010 | 0.8722 | 1.1526123
6112202020 | 0.3738 | 0.4939767
6112202030 | 0.2492 | 0.3293178
6112310010 | 0.1192 | 0.1575228
6112310020 | 0.1192 | 0.1575228
6112390010 | 1.0727 | 1.4175731
6112410010 | 0.1192 | 0.1575228
6112410020 | 0.1192 | 0.1575228
6112410030 | 0.1192 | 0.1575228
6112410040 | 0.1192 | 0.1575228
6112490010 | 0.8939 | 1.1812889
6113001005 | 0.1246 | 0.1646589
6113001010 | 0.1246 | 0.1646589
6113001012 | 0.1246 | 0.1646589
6113009015 | 0.3489 | 0.4610714
6113009020 | 0.3489 | 0.4610714
6113009038 | 0.3489 | 0.4610714
6113009042 | 0.3489 | 0.4610714
6113009055 | 0.3489 | 0.4610714
6113009060 | 0.3489 | 0.4610714
6113009074 | 0.3489 | 0.4610714
6113009082 | 0.3489 | 0.4610714
6114200005 | 0.9747 | 1.2880661
6114200010 | 0.9747 | 1.2880661
6114200015 | 0.8528 | 1.1269752
6114200020 | 0.8528 | 1.1269752
6114200035 | 0.8528 | 1.1269752
6114200040 | 0.8528 | 1.1269752
6114200042 | 0.3655 | 0.4830083
6114200044 | 0.8528 | 1.1269752
6114200046 | 0.8528 | 1.1269752
6114200048 | 0.8528 | 1.1269752
6114200052 | 0.8528 | 1.1269752
6114200055 | 0.8528 | 1.1269752
6114200060 | 0.8528 | 1.1269752
6114301010 | 0.2437 | 0.3220496
6114301020 | 0.2437 | 0.3220496
6114302060 | 0.1218 | 0.1609587
6114303014 | 0.2437 | 0.3220496
6114303020 | 0.2437 | 0.3220496
6114303030 | 0.2437 | 0.3220496
6114303042 | 0.2437 | 0.3220496
6114303044 | 0.2437 | 0.3220496
6114303052 | 0.2437 | 0.3220496
6114303054 | 0.2437 | 0.3220496
6114303060 | 0.2437 | 0.3220496
6114303070 | 0.2437 | 0.3220496
6114909045 | 0.5482 | 0.7244463
6114909055 | 0.3655 | 0.4830083
6114909070 | 0.3655 | 0.4830083
6115100500 | 0.4386 | 0.5796099
6115101510 | 1.0965 | 1.4490248
6115103000 | 0.9868 | 1.3040562
6115106000 | 0.1096 | 0.1448364
6115298010 | 1.0965 | 1.4490248
6115309030 | 0.7675 | 1.0142513
6115956000 | 0.9868 | 1.3040562
6115959000 | 0.9868 | 1.3040562
6115966020 | 0.2193 | 0.2898050
6115991420 | 0.2193 | 0.2898050
6115991920 | 0.2193 | 0.2898050
6115999000 | 0.1096 | 0.1448364
6116101300 | 0.3463 | 0.4576355
6116101720 | 0.8079 | 1.0676399
6116104810 | 0.4444 | 0.5872746
6116105510 | 0.6464 | 0.8542176
6116107510 | 0.6464 | 0.8542176
6116109500 | 0.1616 | 0.2135544
6116920500 | 0.8079 | 1.0676399
6116920800 | 0.8079 | 1.0676399
6116926410 | 1.0388 | 1.3727742
6116926420 | 1.0388 | 1.3727742
6116926430 | 1.1542 | 1.5252753
6116926440 | 1.0388 | 1.3727742
6116927450 | 1.0388 | 1.3727742
6116927460 | 1.1542 | 1.5252753
6116927470 | 1.0388 | 1.3727742
6116928800 | 1.0388 | 1.3727742
6116929400 | 1.0388 | 1.3727742
6116938800 | 0.1154 | 0.1525011
6116939400 | 0.1154 | 0.1525011
6116994800 | 0.1154 | 0.1525011
6116995400 | 0.1154 | 0.1525011
6116999510 | 0.4617 | 0.6101366
6116999530 | 0.3463 | 0.4576355
6117106010 | 0.9234 | 1.2202731
6117106020 | 0.2308 | 0.3050022
6117808500 | 0.9234 | 1.2202731
6117808710 | 1.1542 | 1.5252753
6117808770 | 0.1731 | 0.2287517
6117809510 | 0.9234 | 1.2202731
6117809540 | 0.3463 | 0.4576355
6117809570 | 0.1731 | 0.2287517
6117909003 | 1.1542 | 1.5252753
6117909015 | 0.2308 | 0.3050022
6117909020 | 1.1542 | 1.5252753
6117909040 | 1.1542 | 1.5252753
6117909060 | 1.1542 | 1.5252753
6117909080 | 1.1542 | 1.5252753
6201301200 | 0.8981 | 1.1868392
6201302010 | 1.0602 | 1.4010543
6201302020 | 1.0602 | 1.4010543
6201302025 | 1.2473 | 1.6483070
6201302035 | 1.2473 | 1.6483070
6201302050 | 0.8108 | 1.0714722
6201302060 | 0.8108 | 1.0714722
6201303000 | 0.6486 | 0.8571249
6201304000 | 0.8108 | 1.0714722
6201305005 | 0.8108 | 1.0714722
6201305010 | 0.8108 | 1.0714722
6201305021 | 1.2473 | 1.6483070
6201305031 | 1.2473 | 1.6483070
6201305041 | 1.2473 | 1.6483070
6201305051 | 0.8108 | 1.0714722
6201305061 | 0.8108 | 1.0714722
6201306000 | 0.6486 | 0.8571249
6201307000 | 0.8108 | 1.0714722
6201308005 | 0.8108 | 1.0714722
6201308010 | 0.8108 | 1.0714722
6201308021 | 1.2473 | 1.6483070
6201308031 | 1.2473 | 1.6483070
6201308041 | 1.2473 | 1.6483070
6201308051 | 0.8108 | 1.0714722
6201308061 | 0.8108 | 1.0714722
6201402015 | 0.2495 | 0.3297143
6201402020 | 0.2495 | 0.3297143
6201402030 | 0.3118 | 0.4120437
6201402040 | 0.3118 | 0.4120437
6201404500 | 0.3118 | 0.4120437
6201405011 | 0.3118 | 0.4120437
6201405021 | 0.3118 | 0.4120437
6201407000 | 0.3118 | 0.4120437
6201407511 | 0.3118 | 0.4120437
6201407521 | 0.3118 | 0.4120437
6201902910 | 0.5613 | 0.7417580
6201902930 | 0.3742 | 0.4945053
6201902960 | 0.3742 | 0.4945053
6201904910 | 0.5613 | 0.7417580
6201904930 | 0.3742 | 0.4945053
6201904960 | 0.3742 | 0.4945053
6201906910 | 0.5613 | 0.7417580
6201906930 | 0.3742 | 0.4945053
6201906960 | 0.3742 | 0.4945053
6202301200 | 0.8879 | 1.1733599
6202302010 | 1.0482 | 1.3851963
6202302020 | 1.0482 | 1.3851963
6202302025 | 1.2332 | 1.6296738
6202302035 | 1.2332 | 1.6296738
6202302050 | 0.8016 | 1.0593144
6202302060 | 0.8016 | 1.0593144
6202303000 | 0.9865 | 1.3036598
6202304000 | 0.9865 | 1.3036598
6202305010 | 0.9865 | 1.3036598
6202305020 | 0.9865 | 1.3036598
6202305026 | 1.2332 | 1.6296738
6202305031 | 1.2332 | 1.6296738
6202305061 | 0.9865 | 1.3036598
6202305071 | 0.9865 | 1.3036598
6202306000 | 0.9865 | 1.3036598
6202307000 | 0.9865 | 1.3036598
6202308010 | 0.9865 | 1.3036598
6202308020 | 0.9865 | 1.3036598
6202308026 | 1.2332 | 1.6296738
6202308031 | 1.2332 | 1.6296738
6202308061 | 0.9865 | 1.3036598
6202308071 | 0.9865 | 1.3036598
6202402005 | 0.2524 | 0.3335466
6202402010 | 0.2524 | 0.3335466
6202402020 | 0.3155 | 0.4169333
6202402030 | 0.3155 | 0.4169333
6202402500 | 0.2960 | 0.3911640
6202403510 | 0.2466 | 0.3258819
6202403520 | 0.2466 | 0.3258819
6202405011 | 0.2466 | 0.3258819
6202405021 | 0.2466 | 0.3258819
6202405500 | 0.2960 | 0.3911640
6202406010 | 0.2466 | 0.3258819
6202406020 | 0.2466 | 0.3258819
6202407511 | 0.2466 | 0.3258819
6202407521 | 0.2466 | 0.3258819
6202902910 | 0.5678 | 0.7503477
6202902930 | 0.3786 | 0.5003199
6202902960 | 0.2524 | 0.3335466
6202904911 | 0.5549 | 0.7333004
6202904931 | 0.3700 | 0.4889550
6202904961 | 0.2466 | 0.3258819
6202906911 | 0.5549 | 0.7333004
6202906931 | 0.3700 | 0.4889550
6202906961 | 0.2466 | 0.3258819
6203122010 | 0.1233 | 0.1629410
6203122020 | 0.1233 | 0.1629410
6203191010 | 0.9865 | 1.3036598
6203191020 | 0.9865 | 1.3036598
6203191030 | 0.9865 | 1.3036598
6203199010 | 0.5549 | 0.7333004
6203199020 | 0.5549 | 0.7333004
6203199030 | 0.5549 | 0.7333004
6203199050 | 0.37 | 0.4889550
6203199080 | 0.2466 | 0.3258819
6203221000 | 1.2332 | 1.6296738
6203321000 | 0.6782 | 0.8962413
6203322010 | 1.1715 | 1.5481373
6203322020 | 1.1715 | 1.5481373
6203322030 | 1.1715 | 1.5481373
6203322040 | 1.1715 | 1.5481373
6203322050 | 1.1715 | 1.5481373
6203332010 | 0.1233 | 0.1629410
6203332020 | 0.1233 | 0.1629410
6203392010 | 0.1233 | 0.1629410
6203392020 | 0.1233 | 0.1629410
6203399010 | 0.5549 | 0.7333004
6203399030 | 0.37 | 0.4889550
6203399060 | 0.2466 | 0.3258819
6203420300 | 1.0616 | 1.4029044
6203420505 | 0.7077 | 0.9352256
6203420510 | 0.9436 | 1.2469674
6203420525 | 0.9436 | 1.2469674
6203420550 | 0.9436 | 1.2469674
6203420590 | 0.9436 | 1.2469674
6203420703 | 1.0616 | 1.4029044
6203420706 | 1.1796 | 1.5588414
6203420711 | 1.1796 | 1.5588414
6203420716 | 0.9436 | 1.2469674
6203420721 | 1.1796 | 1.5588414
6203420726 | 1.1796 | 1.5588414
6203420731 | 1.1796 | 1.5588414
6203420736 | 1.1796 | 1.5588414
6203420741 | 0.9436 | 1.2469674
6203420746 | 0.9436 | 1.2469674
6203420751 | 0.8752 | 1.1565768
6203420756 | 0.8752 | 1.1565768
6203420761 | 0.8752 | 1.1565768
6203421700 | 1.0616 | 1.4029044
6203422505 | 0.7077 | 0.9352256
6203422510 | 0.9436 | 1.2469674
6203422525 | 0.9436 | 1.2469674
6203422550 | 0.9436 | 1.2469674
6203422590 | 0.9436 | 1.2469674
6203424503 | 1.0616 | 1.4029044
6203424506 | 1.1796 | 1.5588414
6203424511 | 1.1796 | 1.5588414
6203424516 | 0.9436 | 1.2469674
6203424521 | 1.1796 | 1.5588414
6203424526 | 1.1796 | 1.5588414
6203424531 | 1.1796 | 1.5588414
6203424536 | 1.1796 | 1.5588414
6203424541 | 0.9436 | 1.2469674
6203424546 | 0.9436 | 1.2469674
6203424551 | 0.8752 | 1.1565768
6203424556 | 0.8752 | 1.1565768
6203424561 | 0.8752 | 1.1565768
6203430100 | 0.1887 | 0.2493671
6203430300 | 0.118 | 0.1559370
6203430505 | 0.118 | 0.1559370
6203430510 | 0.2359 | 0.3117419
6203430525 | 0.2359 | 0.3117419
6203430550 | 0.2359 | 0.3117419
6203430590 | 0.2359 | 0.3117419
6203431110 | 0.059 | 0.0779685
6203431190 | 0.059 | 0.0779685
6203431310 | 0.1167 | 0.1542191
6203431315 | 0.1167 | 0.1542191
6203431320 | 0.1167 | 0.1542191
6203431330 | 0.1167 | 0.1542191
6203431335 | 0.1167 | 0.1542191
6203431340 | 0.1167 | 0.1542191
6203434500 | 0.1887 | 0.2493671
6203435500 | 0.118 | 0.1559370
6203436005 | 0.118 | 0.1559370
6203436010 | 0.2359 | 0.3117419
6203436025 | 0.2359 | 0.3117419
6203436050 | 0.2359 | 0.3117419
6203436090 | 0.2359 | 0.3117419
6203436500 | 0.4128 | 0.5455152
6203437510 | 0.059 | 0.0779685
6203437590 | 0.059 | 0.0779685
6203439010 | 0.1167 | 0.1542191
6203439015 | 0.1167 | 0.1542191
6203439020 | 0.1167 | 0.1542191
6203439030 | 0.1167 | 0.1542191
6203439035 | 0.1167 | 0.1542191
6203439040 | 0.1167 | 0.1542191
6203490105 | 0.118 | 0.1559370
6203490110 | 0.2359 | 0.3117419
6203490125 | 0.2359 | 0.3117419
6203490150 | 0.2359 | 0.3117419
6203490190 | 0.2359 | 0.3117419
6203490515 | 0.2359 | 0.3117419
6203490520 | 0.2359 | 0.3117419
6203490530 | 0.118 | 0.1559370
6203490545 | 0.118 | 0.1559370
6203490550 | 0.118 | 0.1559370
6203490560 | 0.118 | 0.1559370
6203490920 | 0.5308 | 0.7014522
6203490930 | 0.3539 | 0.4676789
6203490945 | 0.2359 | 0.3117419
6203492505 | 0.118 | 0.1559370
6203492510 | 0.2359 | 0.3117419
6203492525 | 0.2359 | 0.3117419
6203492550 | 0.2359 | 0.3117419
6203492590 | 0.2359 | 0.3117419
6203493500 | 0.4128 | 0.5455152
6203495015 | 0.2359 | 0.3117419
6203495020 | 0.2359 | 0.3117419
6203495030 | 0.118 | 0.1559370
6203495045 | 0.118 | 0.1559370
6203495050 | 0.118 | 0.1559370
6203495060 | 0.118 | 0.1559370
6203499020 | 0.5308 | 0.7014522
6203499030 | 0.3539 | 0.4676789
6203499045 | 0.2359 | 0.3117419
6204110000 | 0.0617 | 0.0815366
6204120010 | 0.9865 | 1.3036598
6204120020 | 0.9865 | 1.3036598
6204120030 | 0.9865 | 1.3036598
6204120040 | 0.9865 | 1.3036598
6204132010 | 0.1233 | 0.1629410
6204132020 | 0.1233 | 0.1629410
6204192000 | 0.1233 | 0.1629410
6204198010 | 0.5549 | 0.7333004
6204198020 | 0.5549 | 0.7333004
6204198030 | 0.5549 | 0.7333004
6204198040 | 0.5549 | 0.7333004
6204198060 | 0.3083 | 0.4074185
6204198090 | 0.2466 | 0.3258819
6204221000 | 1.2332 | 1.6296738
6204321000 | 0.6782 | 0.8962413
6204322010 | 1.1715 | 1.5481373
6204322020 | 1.1715 | 1.5481373
6204322030 | 0.9865 | 1.3036598
6204322040 | 0.9865 | 1.3036598
6204398010 | 0.5549 | 0.7333004
6204398030 | 0.3083 | 0.4074185
6204412010 | 0.0603 | 0.0796865
6204412020 | 0.0603 | 0.0796865
6204421000 | 1.2058 | 1.5934647
6204422000 | 0.6632 | 0.8764188
6204423010 | 1.2058 | 1.5934647
6204423020 | 1.2058 | 1.5934647
6204423030 | 0.9043 | 1.1950325
6204423040 | 0.9043 | 1.1950325
6204423050 | 0.9043 | 1.1950325
6204423060 | 0.9043 | 1.1950325
6204431000 | 0.4823 | 0.6373595
6204432000 | 0.0603 | 0.0796865
6204442000 | 0.4316 | 0.5703594
6204495010 | 0.5549 | 0.7333004
6204495030 | 0.2466 | 0.3258819
6204510010 | 0.0631 | 0.0833867
6204510020 | 0.0631 | 0.0833867
6204521000 | 1.2618 | 1.6674687
6204522010 | 1.1988 | 1.5842142
6204522020 | 1.1988 | 1.5842142
6204522030 | 1.1988 | 1.5842142
6204522040 | 1.1988 | 1.5842142
6204522070 | 1.0095 | 1.3340543
6204522080 | 1.0095 | 1.3340543
6204531000 | 0.4416 | 0.5835744
6204532010 | 0.0631 | 0.0833867
6204532020 | 0.0631 | 0.0833867
6204533010 | 0.2524 | 0.3335466
6204533020 | 0.2524 | 0.3335466
6204591000 | 0.4416 | 0.5835744
6204594010 | 0.5678 | 0.7503477
6204594030 | 0.2524 | 0.3335466
6204594060 | 0.2524 | 0.3335466
6204610510 | 0.059 | 0.0779685
6204610520 | 0.059 | 0.0779685
6204611510 | 0.059 | 0.0779685
6204611520 | 0.059 | 0.0779685
6204611530 | 0.059 | 0.0779685
6204611540 | 0.118 | 0.1559370
6204616010 | 0.059 | 0.0779685
6204616020 | 0.059 | 0.0779685
6204618010 | 0.059 | 0.0779685
6204618020 | 0.059 | 0.0779685
6204618030 | 0.059 | 0.0779685
6204618040 | 0.118 | 0.1559370
6204620300 | 0.8681 | 1.1471942
6204620505 | 0.7077 | 0.9352256
6204620510 | 0.9436 | 1.2469674
6204620525 | 0.9436 | 1.2469674
6204620550 | 0.9436 | 1.2469674
6204621503 | 1.0616 | 1.4029044
6204621506 | 1.1796 | 1.5588414
6204621511 | 1.1796 | 1.5588414
6204621521 | 0.9436 | 1.2469674
6204621526 | 1.1796 | 1.5588414
6204621531 | 1.1796 | 1.5588414
6204621536 | 1.1796 | 1.5588414
6204621541 | 1.1796 | 1.5588414
6204621546 | 0.9436 | 1.2469674
6204621551 | 0.9436 | 1.2469674
6204621556 | 0.9335 | 1.2336203
6204621561 | 0.9335 | 1.2336203
6204621566 | 0.9335 | 1.2336203
6204625000 | 0.8681 | 1.1471942
6204626005 | 0.7077 | 0.9352256
6204626010 | 0.9436 | 1.2469674
6204626025 | 0.9436 | 1.2469674
6204626050 | 0.9436 | 1.2469674
6204627000 | 1.1796 | 1.5588414
6204628003 | 1.0616 | 1.4029044
6204628006 | 1.1796 | 1.5588414
6204628011 | 1.1796 | 1.5588414
6204628021 | 0.9436 | 1.2469674
6204628026 | 1.1796 | 1.5588414
6204628031 | 1.1796 | 1.5588414
6204628036 | 1.1796 | 1.5588414
6204628041 | 1.1796 | 1.5588414
6204628046 | 0.9436 | 1.2469674
6204628051 | 0.9436 | 1.2469674
6204628056 | 0.9335 | 1.2336203
6204628061 | 0.9335 | 1.2336203
6204628066 | 0.9335 | 1.2336203
6204630100 | 0.2019 | 0.2668109
6204630200 | 0.118 | 0.1559370
6204630305 | 0.118 | 0.1559370
6204630310 | 0.2359 | 0.3117419
6204630325 | 0.2359 | 0.3117419
6204630350 | 0.2359 | 0.3117419
6204630810 | 0.059 | 0.0779685
6204630820 | 0.059 | 0.0779685
6204630910 | 0.0603 | 0.0796865
6204630990 | 0.0603 | 0.0796865
6204631110 | 0.2412 | 0.3187458
6204631125 | 0.2412 | 0.3187458
6204631130 | 0.2412 | 0.3187458
6204631132 | 0.2309 | 0.3051344
6204631135 | 0.2309 | 0.3051344
6204631140 | 0.2309 | 0.3051344
6204635000 | 0.2019 | 0.2668109
6204635500 | 0.118 | 0.1559370
6204636005 | 0.118 | 0.1559370
6204636010 | 0.2359 | 0.3117419
6204636025 | 0.2359 | 0.3117419
6204636050 | 0.2359 | 0.3117419
6204636500 | 0.4718 | 0.6234837
6204637010 | 0.059 | 0.0779685
6204637020 | 0.059 | 0.0779685
6204637510 | 0.0603 | 0.0796865
6204637590 | 0.0603 | 0.0796865
6204639010 | 0.2412 | 0.3187458
6204639025 | 0.2412 | 0.3187458
6204639030 | 0.2412 | 0.3187458
6204639032 | 0.2309 | 0.3051344
6204639035 | 0.2309 | 0.3051344
6204639040 | 0.2309 | 0.3051344
6204690105 | 0.118 | 0.1559370
6204690110 | 0.2359 | 0.3117419
6204690110 | 0.2359 | 0.3117419
6204690125 | 0.2359 | 0.3117419
6204690150 | 0.2359 | 0.3117419
6204690210 | 0.059 | 0.0779685
6204690220 | 0.059 | 0.0779685
6204690230 | 0.059 | 0.0779685
6204690310 | 0.2359 | 0.3117419
6204690320 | 0.2359 | 0.3117419
6204690330 | 0.2359 | 0.3117419
6204690340 | 0.2309 | 0.3051344
6204690350 | 0.2309 | 0.3051344
6204690360 | 0.2309 | 0.3051344
6204690510 | 0.5308 | 0.7014522
6204690530 | 0.2359 | 0.3117419
6204690570 | 0.3539 | 0.4676789
6204690610 | 0.5308 | 0.7014522
6204690630 | 0.2359 | 0.3117419
6204690644 | 0.2359 | 0.3117419
6204690646 | 0.2359 | 0.3117419
6204690650 | 0.3539 | 0.4676789
6204691505 | 0.118 | 0.1559370
6204691510 | 0.2359 | 0.3117419
6204691525 | 0.2359 | 0.3117419
6204691525 | 0.2359 | 0.3117419
6204691550 | 0.2359 | 0.3117419
6204692210 | 0.059 | 0.0779685
6204692220 | 0.059 | 0.0779685
6204692230 | 0.059 | 0.0779685
6204692810 | 0.2359 | 0.3117419
6204692820 | 0.2359 | 0.3117419
6204692830 | 0.2359 | 0.3117419
6204692840 | 0.2309 | 0.3051344
6204692850 | 0.2309 | 0.3051344
6204692860 | 0.2309 | 0.3051344
6204696510 | 0.5308 | 0.7014522
6204696530 | 0.2359 | 0.3117419
6204696570 | 0.3539 | 0.4676789
6204698010 | 0.5308 | 0.7014522
6204698030 | 0.2359 | 0.3117419
6204698044 | 0.2359 | 0.3117419
6204698046 | 0.2359 | 0.3117419
6204698050 | 0.3539 | 0.4676789
6205201000 | 1.1796 | 1.5588414
6205202003 | 0.9436 | 1.2469674
6205202016 | 0.9436 | 1.2469674
6205202021 | 0.9436 | 1.2469674
6205202026 | 0.9436 | 1.2469674
6205202031 | 0.9436 | 1.2469674
6205202036 | 1.0616 | 1.4029044
6205202041 | 1.0616 | 1.4029044
6205202044 | 1.0616 | 1.4029044
6205202047 | 0.9436 | 1.2469674
6205202051 | 0.9436 | 1.2469674
6205202056 | 0.9436 | 1.2469674
6205202061 | 0.9436 | 1.2469674
6205202066 | 0.9436 | 1.2469674
6205202071 | 0.9436 | 1.2469674
6205202076 | 0.9436 | 1.2469674
6205301000 | 0.4128 | 0.5455152
6205302010 | 0.2949 | 0.3897104
6205302020 | 0.2949 | 0.3897104
6205302030 | 0.2949 | 0.3897104
6205302040 | 0.2949 | 0.3897104
6205302050 | 0.2949 | 0.3897104
6205302055 | 0.2949 | 0.3897104
6205302060 | 0.2949 | 0.3897104
6205302070 | 0.2949 | 0.3897104
6205302075 | 0.2949 | 0.3897104
6205302080 | 0.2949 | 0.3897104
6205900710 | 0.118 | 0.1559370
6205900720 | 0.118 | 0.1559370
6205901000 | 0.2359 | 0.3117419
6205903010 | 0.5308 | 0.7014522
6205903030 | 0.2359 | 0.3117419
6205903050 | 0.1769 | 0.2337734
6205904010 | 0.5308 | 0.7014522
6205904030 | 0.2359 | 0.3117419
6205904040 | 0.2359 | 0.3117419
6206100010 | 0.5308 | 0.7014522
6206100030 | 0.2359 | 0.3117419
6206100040 | 0.118 | 0.1559370
6206100050 | 0.2359 | 0.3117419
6206203010 | 0.059 | 0.0779685
6206203020 | 0.059 | 0.0779685
6206301000 | 1.1796 | 1.5588414
6206302000 | 0.6488 | 0.8573892
6206303003 | 0.9436 | 1.2469674
6206303011 | 0.9436 | 1.2469674
6206303021 | 0.9436 | 1.2469674
6206303031 | 0.9436 | 1.2469674
6206303041 | 0.9436 | 1.2469674
6206303051 | 0.9436 | 1.2469674
6206303061 | 0.9436 | 1.2469674
6206401000 | 0.4128 | 0.5455152
6206403010 | 0.2949 | 0.3897104
6206403020 | 0.2949 | 0.3897104
6206403025 | 0.2949 | 0.3897104
6206403030 | 0.2949 | 0.3897104
6206403040 | 0.2949 | 0.3897104
6206403050 | 0.2949 | 0.3897104
6206900010 | 0.5308 | 0.7014522
6206900030 | 0.2359 | 0.3117419
6206900040 | 0.1769 | 0.2337734
6207110000 | 1.0281 | 1.3586342
6207199010 | 0.3427 | 0.4528781
6207199030 | 0.4569 | 0.6037934
6207210010 | 1.0502 | 1.3878393
6207210020 | 1.0502 | 1.3878393
6207210030 | 1.0502 | 1.3878393
6207210040 | 1.0502 | 1.3878393
6207220000 | 0.3501 | 0.4626572
6207291000 | 0.1167 | 0.1542191
6207299030 | 0.1167 | 0.1542191
6207911000 | 1.0852 | 1.4340918
6207913010 | 1.0852 | 1.4340918
6207913020 | 1.0852 | 1.4340918
6207997520 | 0.2412 | 0.3187458
6207998510 | 0.2412 | 0.3187458
6207998520 | 0.2412 | 0.3187458
6208110000 | 0.2412 | 0.3187458
6208192000 | 1.0852 | 1.4340918
6208195000 | 0.1206 | 0.1593729
6208199000 | 0.2412 | 0.3187458
6208210010 | 1.0026 | 1.3249359
6208210020 | 1.0026 | 1.3249359
6208210030 | 1.0026 | 1.3249359
6208220000 | 0.118 | 0.1559370
6208299030 | 0.2359 | 0.3117419
6208911010 | 1.0852 | 1.4340918
6208911020 | 1.0852 | 1.4340918
6208913010 | 1.0852 | 1.4340918
6208913020 | 1.0852 | 1.4340918
6208920010 | 0.1206 | 0.1593729
6208920020 | 0.1206 | 0.1593729
6208920030 | 0.1206 | 0.1593729
6208920040 | 0.1206 | 0.1593729
6208992010 | 0.0603 | 0.0796865
6208992020 | 0.0603 | 0.0796865
6208995010 | 0.2412 | 0.3187458
6208995020 | 0.2412 | 0.3187458
6208998010 | 0.2412 | 0.3187458
6208998020 | 0.2412 | 0.3187458
6209201000 | 1.0967 | 1.4492891
6209202000 | 1.039 | 1.3730385
6209203000 | 0.9236 | 1.2205374
6209205030 | 0.9236 | 1.2205374
6209205035 | 0.9236 | 1.2205374
6209205045 | 0.9236 | 1.2205374
6209205050 | 0.9236 | 1.2205374
6209301000 | 0.2917 | 0.3854816
6209302000 | 0.2917 | 0.3854816
6209303010 | 0.2334 | 0.3084381
6209303020 | 0.2334 | 0.3084381
6209303030 | 0.2334 | 0.3084381
6209303040 | 0.2334 | 0.3084381
6209900500 | 0.1154 | 0.1525011
6209901000 | 0.2917 | 0.3854816
6209902000 | 0.2917 | 0.3854816
6209903010 | 0.2917 | 0.3854816
6209903015 | 0.2917 | 0.3854816
6209903020 | 0.2917 | 0.3854816
6209903030 | 0.2917 | 0.3854816
6209903040 | 0.2917 | 0.3854816
6210109010 | 0.217 | 0.2867655
6210109040 | 0.217 | 0.2867655
6210203000 | 0.0362 | 0.0478383
6210205000 | 0.0844 | 0.1115346
6210205010 | 0.0844 | 0.1115346
6210205020 | 0.4316 | 0.5703594
6210205029 | 0.4316 | 0.5703594
6210207000 | 0.1809 | 0.2390594
6210209039 | 0.1110 | 0.1466865
6210209049 | 0.1110 | 0.1466865
6210303000 | 0.0362 | 0.0478383
6210305000 | 0.0844 | 0.1115346
6210305010 | 0.0844 | 0.1115346
6210305020 | 0.0863 | 0.1140455
6210305029 | 0.0863 | 0.1140455
6210307000 | 0.0362 | 0.0478383
6210309020 | 0.422 | 0.5576730
6210309039 | 0.1480 | 0.1955820
6210309049 | 0.1480 | 0.1955820
6210401500 | 0.037 | 0.0488955
6210402531 | 0.0863 | 0.1140455
6210402539 | 0.0863 | 0.1140455
6210402540 | 0.4316 | 0.5703594
6210402550 | 0.4316 | 0.5703594
6210402800 | 0.111 | 0.1466865
6210402933 | 0.111 | 0.1466865
6210402945 | 0.111 | 0.1466865
6210402960 | 0.111 | 0.1466865
6210403500 | 0.037 | 0.0488955
6210405531 | 0.0863 | 0.1140455
6210405539 | 0.0863 | 0.1140455
6210405540 | 0.4316 | 0.5703594
6210405550 | 0.4316 | 0.5703594
6210407500 | 0.111 | 0.1466865
6210408033 | 0.111 | 0.1466865
6210408045 | 0.111 | 0.1466865
6210408060 | 0.111 | 0.1466865
6210500300 | 0.037 | 0.0488955
6210500531 | 0.0863 | 0.1140455
6210500539 | 0.0863 | 0.1140455
6210500540 | 0.0863 | 0.1140455
6210500555 | 0.0863 | 0.1140455
6210501200 | 0.4316 | 0.5703594
6210502260 | 0.148 | 0.1955820
6210502270 | 0.148 | 0.1955820
6210502290 | 0.148 | 0.1955820
6210503500 | 0.037 | 0.0488955
6210505531 | 0.0863 | 0.1140455
6210505539 | 0.0863 | 0.1140455
6210505540 | 0.0863 | 0.1140455
6210505555 | 0.0863 | 0.1140455
6210507500 | 0.4316 | 0.5703594
6210508060 | 0.148 | 0.1955820
6210508070 | 0.148 | 0.1955820
6210508090 | 0.148 | 0.1955820
6211111010 | 0.1206 | 0.1593729
6211111020 | 0.1206 | 0.1593729
6211118010 | 1.0852 | 1.4340918
6211118020 | 1.0852 | 1.4340918
6211118040 | 0.2412 | 0.3187458
6211121010 | 0.0603 | 0.0796865
6211121020 | 0.0603 | 0.0796865
6211128010 | 1.0852 | 1.4340918
6211128020 | 1.0852 | 1.4340918
6211128030 | 0.6029 | 0.7967324
6211200410 | 0.7717 | 1.0198016
6211200420 | 0.0965 | 0.1275248
6211200430 | 0.7717 | 1.0198016
6211200440 | 0.0965 | 0.1275248
6211200810 | 0.3858 | 0.5098347
6211200820 | 0.3858 | 0.5098347
6211201510 | 0.7615 | 1.0063223
6211201515 | 0.2343 | 0.3096275
6211201520 | 0.6443 | 0.8514425
6211201525 | 0.2929 | 0.3870674
6211201530 | 0.7615 | 1.0063223
6211201535 | 0.3515 | 0.4645073
6211201540 | 0.7615 | 1.0063223
6211201545 | 0.2929 | 0.3870674
6211201550 | 0.7615 | 1.0063223
6211201555 | 0.41 | 0.5418150
6211201560 | 0.7615 | 1.0063223
6211201565 | 0.2343 | 0.3096275
6211202400 | 0.1233 | 0.1629410
6211202810 | 0.8016 | 1.0593144
6211202820 | 0.2466 | 0.3258819
6211202830 | 0.3083 | 0.4074185
6211203400 | 0.1233 | 0.1629410
6211203810 | 0.8016 | 1.0593144
6211203820 | 0.2466 | 0.3258819
6211203830 | 0.3083 | 0.4074185
6211204400 | 0.1233 | 0.1629410
6211204815 | 0.8016 | 1.0593144
6211204835 | 0.2466 | 0.3258819
6211204860 | 0.3083 | 0.4074185
6211205400 | 0.1233 | 0.1629410
6211205810 | 0.8016 | 1.0593144
6211205820 | 0.2466 | 0.3258819
6211205830 | 0.3083 | 0.4074185
6211206400 | 0.1233 | 0.1629410
6211206810 | 0.8016 | 1.0593144
6211206820 | 0.2466 | 0.3258819
6211206830 | 0.3083 | 0.4074185
6211207400 | 0.1233 | 0.1629410
6211207810 | 0.9249 | 1.2222554
6211207820 | 0.2466 | 0.3258819
6211207830 | 0.3083 | 0.4074185
6211325003 | 0.6412 | 0.8473458
6211325007 | 0.8016 | 1.0593144
6211325010 | 0.9865 | 1.3036598
6211325015 | 0.9865 | 1.3036598
6211325025 | 0.9865 | 1.3036598
6211325030 | 0.9249 | 1.2222554
6211325040 | 0.9249 | 1.2222554
6211325050 | 0.9249 | 1.2222554
6211325060 | 0.9249 | 1.2222554
6211325070 | 0.9249 | 1.2222554
6211325075 | 0.9249 | 1.2222554
6211325081 | 0.9249 | 1.2222554
6211329003 | 0.6412 | 0.8473458
6211329007 | 0.8016 | 1.0593144
6211329010 | 0.9865 | 1.3036598
6211329015 | 0.9865 | 1.3036598
6211329025 | 0.9865 | 1.3036598
6211329030 | 0.9249 | 1.2222554
6211329040 | 0.9249 | 1.2222554
6211329050 | 0.9249 | 1.2222554
6211329060 | 0.9249 | 1.2222554
6211329070 | 0.9249 | 1.2222554
6211329075 | 0.9249 | 1.2222554
6211329081 | 0.9249 | 1.2222554
6211335003 | 0.0987 | 0.1304321
6211335007 | 0.1233 | 0.1629410
6211335010 | 0.3083 | 0.4074185
6211335015 | 0.3083 | 0.4074185
6211335017 | 0.3083 | 0.4074185
6211335025 | 0.37 | 0.4889550
6211335030 | 0.37 | 0.4889550
6211335035 | 0.37 | 0.4889550
6211335040 | 0.37 | 0.4889550
6211335054 | 0.37 | 0.4889550
6211335058 | 0.37 | 0.4889550
6211335061 | 0.37 | 0.4889550
6211339003 | 0.0987 | 0.1304321
6211339007 | 0.1233 | 0.1629410
6211339010 | 0.3083 | 0.4074185
6211339015 | 0.3083 | 0.4074185
6211339017 | 0.3083 | 0.4074185
6211339025 | 0.37 | 0.4889550
6211339030 | 0.37 | 0.4889550
6211339035 | 0.37 | 0.4889550
6211339040 | 0.37 | 0.4889550
6211339054 | 0.37 | 0.4889550
6211339058 | 0.37 | 0.4889550
6211339061 | 0.37 | 0.4889550
6211390310 | 0.1233 | 0.1629410
6211390320 | 0.1233 | 0.1629410
6211390330 | 0.1233 | 0.1629410
6211390340 | 0.1233 | 0.1629410
6211390345 | 0.1233 | 0.1629410
6211390351 | 0.1233 | 0.1629410
6211391510 | 0.2466 | 0.3258819
6211391520 | 0.2466 | 0.3258819
6211391530 | 0.2466 | 0.3258819
6211391540 | 0.2466 | 0.3258819
6211391550 | 0.2466 | 0.3258819
6211391560 | 0.2466 | 0.3258819
6211391570 | 0.2466 | 0.3258819
6211391590 | 0.2466 | 0.3258819
6211393010 | 0.1233 | 0.1629410
6211393020 | 0.1233 | 0.1629410
6211393030 | 0.1233 | 0.1629410
6211393040 | 0.1233 | 0.1629410
6211393045 | 0.1233 | 0.1629410
6211393051 | 0.1233 | 0.1629410
6211398010 | 0.2466 | 0.3258819
6211398020 | 0.2466 | 0.3258819
6211398030 | 0.2466 | 0.3258819
6211398040 | 0.2466 | 0.3258819
6211398050 | 0.2466 | 0.3258819
6211398060 | 0.2466 | 0.3258819
6211398070 | 0.2466 | 0.3258819
6211398090 | 0.2466 | 0.3258819
6211420503 | 0.6412 | 0.8473458
6211420507 | 0.8016 | 1.0593144
6211420510 | 0.9865 | 1.3036598
6211420520 | 0.9865 | 1.3036598
6211420525 | 1.1099 | 1.4667329
6211420530 | 0.8632 | 1.1407188
6211420540 | 0.9865 | 1.3036598
6211420554 | 1.1099 | 1.4667329
6211420556 | 1.1099 | 1.4667329
6211420560 | 0.9865 | 1.3036598
6211420570 | 1.1099 | 1.4667329
6211420575 | 1.1099 | 1.4667329
6211420581 | 1.1099 | 1.4667329
6211421003 | 0.6412 | 0.8473458
6211421007 | 0.8016 | 1.0593144
6211421010 | 0.9865 | 1.3036598
6211421020 | 0.9865 | 1.3036598
6211421025 | 1.1099 | 1.4667329
6211421030 | 0.8632 | 1.1407188
6211421040 | 0.9865 | 1.3036598
6211421054 | 1.1099 | 1.4667329
6211421056 | 1.1099 | 1.4667329
6211421060 | 0.9865 | 1.3036598
6211421070 | 1.1099 | 1.4667329
6211421075 | 1.1099 | 1.4667329
6211421081 | 1.1099 | 1.4667329
6211430503 | 0.0987 | 0.1304321
6211430507 | 0.1233 | 0.1629410
6211430510 | 0.2466 | 0.3258819
6211430520 | 0.2466 | 0.3258819
6211430530 | 0.2466 | 0.3258819
6211430540 | 0.2466 | 0.3258819
6211430550 | 0.2466 | 0.3258819
6211430560 | 0.2466 | 0.3258819
6211430564 | 0.3083 | 0.4074185
6211430566 | 0.2466 | 0.3258819
6211430574 | 0.3083 | 0.4074185
6211430576 | 0.37 | 0.4889550
6211430578 | 0.37 | 0.4889550
6211430591 | 0.2466 | 0.3258819
6211431003 | 0.0987 | 0.1304321
6211431007 | 0.1233 | 0.1629410
6211431010 | 0.2466 | 0.3258819
6211431020 | 0.2466 | 0.3258819
6211431030 | 0.2466 | 0.3258819
6211431040 | 0.2466 | 0.3258819
6211431050 | 0.2466 | 0.3258819
6211431060 | 0.2466 | 0.3258819
6211431064 | 0.3083 | 0.4074185
6211431066 | 0.2466 | 0.3258819
6211431074 | 0.3083 | 0.4074185
6211431076 | 0.37 | 0.4889550
6211431078 | 0.37 | 0.4889550
6211431091 | 0.2466 | 0.3258819
6211492510 | 0.2466 | 0.3258819
6211492520 | 0.2466 | 0.3258819
6211492530 | 0.2466 | 0.3258819
6211492540 | 0.2466 | 0.3258819
6211492550 | 0.2466 | 0.3258819
6211492560 | 0.2466 | 0.3258819
6211492570 | 0.2466 | 0.3258819
6211492580 | 0.2466 | 0.3258819
6211492590 | 0.2466 | 0.3258819
6211498010 | 0.2466 | 0.3258819
6211498020 | 0.2466 | 0.3258819
6211498030 | 0.2466 | 0.3258819
6211498040 | 0.2466 | 0.3258819
6211498050 | 0.2466 | 0.3258819
6211498060 | 0.2466 | 0.3258819
6211498070 | 0.2466 | 0.3258819
6211498080 | 0.2466 | 0.3258819
6211498090 | 0.2466 | 0.3258819
6212105010 | 0.9138 | 1.2075867
6212105020 | 0.2285 | 0.3019628
6212105030 | 0.2285 | 0.3019628
6212109010 | 0.9138 | 1.2075867
6212109020 | 0.2285 | 0.3019628
6212109040 | 0.2285 | 0.3019628
6212200010 | 0.6854 | 0.9057561
6212200020 | 0.2856 | 0.3774204
6212200030 | 0.1142 | 0.1509153
6212300010 | 0.6854 | 0.9057561
6212300020 | 0.2856 | 0.3774204
6212300030 | 0.1142 | 0.1509153
6212900010 | 0.1828 | 0.2415702
6212900020 | 0.1828 | 0.2415702
6212900030 | 0.1828 | 0.2415702
6212900050 | 0.0914 | 0.1207851
6212900090 | 0.4112 | 0.5434008
6213201000 | 1.1187 | 1.4783621
6213202000 | 1.0069 | 1.3306184
6213900700 | 0.4475 | 0.5913713
6213901000 | 0.4475 | 0.5913713
6213902000 | 0.3356 | 0.4434954
6214300000 | 0.1142 | 0.1509153
6214400000 | 0.1142 | 0.1509153
6214900010 | 0.8567 | 1.1321291
6214900090 | 0.2285 | 0.3019628
6215100025 | 0.1142 | 0.1509153
6215200000 | 0.1142 | 0.1509153
6215900015 | 1.0281 | 1.3586342
6216000800 | 0.0685 | 0.0905228
6216001300 | 0.3427 | 0.4528781
6216001720 | 0.6397 | 0.8453636
6216001730 | 0.1599 | 0.2113079
6216001900 | 0.3427 | 0.4528781
6216002110 | 0.578 | 0.7638270
6216002120 | 0.2477 | 0.3273356
6216002410 | 0.6605 | 0.8728508
6216002425 | 0.1651 | 0.2181797
6216002600 | 0.1651 | 0.2181797
6216002910 | 0.6605 | 0.8728508
6216002925 | 0.1651 | 0.2181797
6216003100 | 0.1651 | 0.2181797
6216003300 | 0.5898 | 0.7794207
6216003500 | 0.5898 | 0.7794207
6216003800 | 1.1796 | 1.5588414
6216004100 | 1.1796 | 1.5588414
6217109510 | 0.9646 | 1.2747189
6217109520 | 0.1809 | 0.2390594
6217109530 | 0.2412 | 0.3187458
6217909003 | 0.9646 | 1.2747189
6217909005 | 0.1809 | 0.2390594
6217909010 | 0.2412 | 0.3187458
6217909025 | 0.9646 | 1.2747189
6217909030 | 0.1809 | 0.2390594
6217909035 | 0.2412 | 0.3187458
6217909050 | 0.9646 | 1.2747189
6217909055 | 0.1809 | 0.2390594
6217909060 | 0.2412 | 0.3187458
6217909075 | 0.9646 | 1.2747189
6217909080 | 0.1809 | 0.2390594
6217909085 | 0.2412 | 0.3187458
6301300010 | 0.8305 | 1.0975058
6301300020 | 0.8305 | 1.0975058
6301900030 | 0.2215 | 0.2927123
6302100005 | 1.1073 | 1.4632970
6302100008 | 1.1073 | 1.4632970
6302100015 | 1.1073 | 1.4632970
6302213010 | 1.1073 | 1.4632970
6302213020 | 1.1073 | 1.4632970
6302213030 | 1.1073 | 1.4632970
6302213040 | 1.1073 | 1.4632970
6302213050 | 1.1073 | 1.4632970
6302215010 | 0.7751 | 1.0242947
6302215020 | 0.7751 | 1.0242947
6302215030 | 0.7751 | 1.0242947
6302215040 | 0.7751 | 1.0242947
6302215050 | 0.7751 | 1.0242947
6302217010 | 1.1073 | 1.4632970
6302217020 | 1.1073 | 1.4632970
6302217030 | 1.1073 | 1.4632970
6302217040 | 1.1073 | 1.4632970
6302217050 | 1.1073 | 1.4632970
6302219010 | 0.7751 | 1.0242947
6302219020 | 0.7751 | 1.0242947
6302219030 | 0.7751 | 1.0242947
6302219040 | 0.7751 | 1.0242947
6302219050 | 0.7751 | 1.0242947
6302221010 | 0.5537 | 0.7317146
6302221020 | 0.3876 | 0.5122134
6302221030 | 0.5537 | 0.7317146
6302221040 | 0.3876 | 0.5122134
6302221050 | 0.3876 | 0.5122134
6302221060 | 0.3876 | 0.5122134
6302222010 | 0.3876 | 0.5122134
6302222020 | 0.3876 | 0.5122134
6302222030 | 0.3876 | 0.5122134
6302290020 | 0.2215 | 0.2927123
6302313010 | 1.1073 | 1.4632970
6302313020 | 1.1073 | 1.4632970
6302313030 | 1.1073 | 1.4632970
6302313040 | 1.1073 | 1.4632970
6302313050 | 1.1073 | 1.4632970
6302315010 | 0.7751 | 1.0242947
6302315020 | 0.7751 | 1.0242947
6302315030 | 0.7751 | 1.0242947
6302315040 | 0.7751 | 1.0242947
6302315050 | 0.7751 | 1.0242947
6302317010 | 1.1073 | 1.4632970
6302317020 | 1.1073 | 1.4632970
6302317030 | 1.1073 | 1.4632970
6302317040 | 1.1073 | 1.4632970
6302317050 | 1.1073 | 1.4632970
6302319010 | 0.7751 | 1.0242947
6302319020 | 0.7751 | 1.0242947
6302319030 | 0.7751 | 1.0242947
6302319040 | 0.7751 | 1.0242947
6302319050 | 0.7751 | 1.0242947
6302321010 | 0.5537 | 0.7317146
6302321020 | 0.3876 | 0.5122134
6302321030 | 0.5537 | 0.7317146
6302321040 | 0.3876 | 0.5122134
6302321050 | 0.3876 | 0.5122134
6302321060 | 0.3876 | 0.5122134
6302322010 | 0.5537 | 0.7317146
6302322020 | 0.3876 | 0.5122134
6302322030 | 0.5537 | 0.7317146
6302322040 | 0.3876 | 0.5122134
6302322050 | 0.3876 | 0.5122134
6302322060 | 0.3876 | 0.5122134
6302390030 | 0.2215 | 0.2927123
6302402010 | 0.9412 | 1.2437958
6302511000 | 0.5537 | 0.7317146
6302512000 | 0.8305 | 1.0975058
6302513000 | 0.5537 | 0.7317146
6302514000 | 0.7751 | 1.0242947
6302593020 | 0.5537 | 0.7317146
6302600010 | 1.1073 | 1.4632970
6302600020 | 0.9966 | 1.3170069
6302600030 | 0.9966 | 1.3170069
6302910005 | 0.9966 | 1.3170069
6302910015 | 1.1073 | 1.4632970
6302910025 | 0.9966 | 1.3170069
6302910035 | 0.9966 | 1.3170069
6302910045 | 0.9966 | 1.3170069
6302910050 | 0.9966 | 1.3170069
6302910060 | 0.9966 | 1.3170069
6302931000 | 0.4429 | 0.5852924
6302932000 | 0.4429 | 0.5852924
6302992000 | 0.2215 | 0.2927123
6303191100 | 0.8859 | 1.1707169
6303910010 | 0.609 | 0.8047935
6303910020 | 0.609 | 0.8047935
6303921000 | 0.2768 | 0.3657912
6303922010 | 0.2768 | 0.3657912
6303922030 | 0.2768 | 0.3657912
6303922050 | 0.2768 | 0.3657912
6303990010 | 0.2768 | 0.3657912
6304111000 | 0.9966 | 1.3170069
6304113000 | 0.1107 | 0.1462901
6304190500 | 0.9966 | 1.3170069
6304191000 | 1.1073 | 1.4632970
6304191500 | 0.3876 | 0.5122134
6304192000 | 0.3876 | 0.5122134
6304193060 | 0.2215 | 0.2927123
6304200020 | 0.8859 | 1.1707169
6304200070 | 0.2215 | 0.2927123
6304910120 | 0.8859 | 1.1707169
6304910170 | 0.2215 | 0.2927123
6304920000 | 0.8859 | 1.1707169
6304996040 | 0.2215 | 0.2927123
6505001515 | 1.1189 | 1.4786264
6505001525 | 0.5594 | 0.7392471
6505001540 | 1.1189 | 1.4786264
6505002030 | 0.9412 | 1.2437958
6505002060 | 0.9412 | 1.2437958
6505002545 | 0.5537 | 0.7317146
6507000000 | 0.3986 | 0.5267499
9404401000 | 0.9966 | 1.3170069
9404409005 | 0.6644 | 0.8780046
9404409036 | 0.0997 | 0.1317536
9404901000 | 0.2104 | 0.2780436
9404908100 | 0.9966 | 1.3170069
9619002100 | 0.8681 | 1.1471942
9619002500 | 0.1085 | 0.1433828
9619003100 | 0.9535 | 1.2600503
9619003300 | 1.1545 | 1.5256718
9619004100 | 0.2384 | 0.3150456
9619004300 | 0.2384 | 0.3150456
9619006100 | 0.8528 | 1.1269752
9619006400 | 0.2437 | 0.3220496
9619006800 | 0.3655 | 0.4830083
9619007100 | 1.1099 | 1.4667329
9619007400 | 0.2466 | 0.3258819
9619007800 | 0.2466 | 0.3258819
9619007900 | 0.2466 | 0.3258819

* * * * *

Authority: 7 U.S.C. 2101-2118.

Melissa Bailey,
Associate Administrator, Agricultural Marketing Service.

[FR Doc. 2022-20653 Filed 9-27-22; 8:45 am]

BILLING CODE P